DEPARTMENT OF HOUSING AND URBAN DEVELOPMENT

[Docket No. FR-4997-N-02]

Notice of Regulatory Waiver Requests Granted for the Second Quarter of Calendar Year 2005

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on April 1, 2005, and ending on June 30, 2005.

FOR FURTHER INFORMATION CONTACT: For general information about this notice, contact Aaron Santa Anna, Assistant General Counsel for Regulations, Room 10276, Department of Housing and Urban Development, 451 Seventh Street, SW., Washington, DC 20410-0500, telephone 202-708-3055 (this is not a toll-free number). Persons with hearing-or speech-impairments may access this number through TTY by calling the toll-free Federal Information Relay Service at 800-877-8339.

For information concerning a particular waiver that was granted and for which public notice is provided in this document, contact the person whose name and address follow the description of the waiver granted in the accompanying list of waivers that have been granted in the second quarter of calendar year 2005.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337) (1991 Policy Statement). This notice covers waivers of regulations granted by HUD from April 1, 2005, through June 30, 2005. For ease of reference, the waivers granted by HUD are listed by HUD program office (for example, the Office of Community Panning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about regulatory waivers granted during the period covered by this report (the second quarter of calendar year 2005) before the next report is published (the third quarter of calendar year 2005), HUD will include any additional waivers granted for the second quarter in the next report.

This report of regulatory waivers does not contain a summary of waivers that were granted to waive the electronic grant application submission requirement as provided in HUD's Fiscal Year (FY) 2005 Super Notice of Funding Availability (FY2005 SuperNOFA), published on March 21, 2005 (70 FR 13576, see 70 FR 13584). These waivers have been determined not to be subject to the requirements of section 106 of the HUD Reform Act. The requirement to submit applications electronically, as provided under the FY2005 SuperNOFA is not viewed as a regulatory requirement. The SuperNOFA's reference to HUD's regulation in 24 CFR 5.110 (which govern regulatory waivers) was included only to clarify that the grounds for waiving the electronic submission requirement would be a good cause showing, similar to regulatory waivers.

The process by which a waiver of the electronic application submission requirement could be obtained was set out in detail in the FY2005 SuperNOFA, making this process comparable to express authorities that allow the Department to relax otherwise applicable requirements and which authorities are exempt from the section 106 requirements (see 1991 Policy Statement at 56 FR 16338). Additionally, one of the objectives of the section 106 requirements is to ensure that the public knows what regulations are being waived, who requested the waiver, and whether the waiver request was granted. The FY2005 SuperNOFA already discloses that the electronic submission requirement is eligible for waiver. The information that is not disclosed at this time is identifying the applicant that is requesting the waiver of this requirement and whether the waiver was granted. That information is being withheld at this time to avoid a violation of section 103 of the HUD Reform Act and HUD's implementing regulation at 25 CFR 4.26(c)(2)(i), which prohibits disclosure of the identify of any applicant before the deadline for the submission of application. That information, however, will become part of the applicant's application file. In accordance with section 102(a)(4)(E) of the HUD Reform Act, and HUD's implementing regulation at 24 CFR 4.5, those files will be available for public inspection commencing 30 days after the award of grants is made and will remain available for at least five years.

Accordingly, information about approved waiver requests pertaining to HUD regulations is provided in the Appendix that follows this notice.

Dated: October 24, 2005.
Keith E. Gottfried,
General Counsel.

Appendix—Listing of Waivers of Regulatory Requirements Granted by Offices of the Department of Housing and Urban Development April 1, 2005, Through June 30, 2005

Note to Reader: More information about the granting of these waivers, including a copy of the waiver request and approval, may be obtained by contacting the person whose name is listed as the contact person directly after each set of regulatory waivers granted.

The regulatory waivers granted appear in the following order:

I. Regulatory Waivers Granted by the Office of Community Planning and Development.

II. Regulatory Waivers Granted by the Office of Housing.

III. Regulatory Waivers Granted by the Office of Public and Indian Housing.

I. Regulatory Waivers Granted by the Office of Community Planning and Development

For further information about the following regulatory waivers, please see the name of the contact person who immediately follows the description of the waiver granted.

• Regulation: 24 CFR 92.503(b).

Project/Activity: The City of Greensboro, North Carolina, requested a waiver of 24 CFR 92.503(b) of the HOME Program regulations (24 CFR part 92).

Nature of Requirements: Section 92.503(b) requires a participating jurisdiction to repay to its HOME account any HOME funds invested in a project that fails to meet the affordability requirements for the period specified in 24 CFR 92.252.

Granted by: Pamela H. Patenaude, Assistant Secretary for Community Planning and Development.

Date Granted: May 20, 2005.

Reasons Waived: The City has worked diligently to devise a plan that ensures that the HOME affordability requirements will be met and maintain the number of affordable housing opportunities available to low-income persons in the community.

Contact: Shawna Burrell, Office of Community Planning and Development, Department of Housing and Urban Development, 451 Seventh Street, SW., Washington, DC 20410-7000, telephone (202) 708-2684.

• Regulation: 24 CFR 92.251(a)(2).

Project/Activity: The State of Oregon requested a waiver of the HOME Program 24 CFR 92.251(a)(2) for assistance provided under its American Dream Downpayment Initiative (ADDI) Program.

Nature of Requirement: Section 92.251(a)(2) states that HOME-assisted housing must meet all applicable state and local housing quality standards and code requirements. If no such standards exist, the housing must meet the housing quality standards at 24 CFR 982.401 for HUD's Housing Choice Voucher Program.

Granted by: Pamela H. Patenaude, Assistant Secretary for Community Planning and Development.

Date Granted: June 17, 2005.

Reasons Waived: The state's use of Minimum Property Standards (MPS) would ensure that ADDI units are decent and free of safety hazards, while eliminating potentially duplicative inspections and ensuring equal access to the ADDI program in rural areas of the state.

Contact: Martha Murray, Office of Community Planning and Development, Department of Housing and Urban Development, 451 Seventh Street, SW., Washington, DC 20410-7000, telephone (202) 708-2684.

• Regulation: 24 CFR 91.15(a)(2).

Project/Activity: The State of Indianapolis, Indiana requested a waiver of 24 CFR 91.15(a)(2) of the consolidated plan submission regulations.

Nature of Requirement: Section 24 CFR 91.15(a)(2) requires a participating jurisdiction to submit its consolidated action plan no later than August 16 of the federal fiscal year for which grant funds were appropriated.

Granted by: Pamela H. Patenaude, Assistant Secretary for Community Planning and Development.

Date Granted: June 16, 2005.

Reasons Waived: Indianapolis is seeking a waiver of 24 CFR 91.15(a)(2) to extend its submission deadline for its FY2004 consolidated action plan until forty-five days after it is notified of HUD's approval of its waiver request. This will enable the City to amend its FY2004 consolidated action plan to include its FY2003 and FY2004 ADDI programs, this waiver will enable Indianapolis to use its FY2003 and FY2004 ADDI program funds to assist first time homebuyers.

Contact: Ginger Macomber, Office of Community Planning and Development, Department of Housing and Urban Development, 451 Seventh Street, SW., Washington, DC 20410-7000, telephone (202) 708-2684.

• Regulation: 24 CFR 92.214(a)(6).

Project/Activity: Washington County, Oregon has requested a waiver under 24 CFR 92.214(a)(6) of the Home program regulations.

Nature of Requirement: This section of the HOME Final Rule states that except for the 12 months following project completion, additional HOME assistance may not be provided to a previously assisted HOME project during the period of affordability.

Granted by: Pamela H. Patenaude, Assistant Secretary for Community Planning and Development.

Date Granted: June 17, 2005.

Reasons Waived: The County and its partners worked to stabilized the vacancy rate, access rehabilitation needs, and leverage additional resources. Through a capital needs assessment, they developed a detailed repair and replacement plan that will make Fircrest Manor competitive in the market and more financially viable.

Contact: Martha Murray, Office of Community Planning and Development, Department of Housing and Urban Development, 451 Seventh Street, SW., Washington, DC 20410-7000, telephone (202) 708-2684.

II. Regulatory Waivers Granted by the Office of Housing—Federal Housing Administration (FHA)

For further information about the following regulatory waivers, please see the name of the contact person that immediately follows the description of the waiver granted.

• Regulation: 24 CFR 266.200(d).

Project/Activity: Mt. Carmel Apartments, Worcester, Massachusetts.

Nature of Requirement: The regulation requires mortgage insurance on risk-sharing transactions by housing finance agencies, rents must be underwritten at the lower of Section 8 rents or market rents for those projects with section 8 subsidies.

Granted by: John C. Weicher, Assistant Secretary for Housing—Federal Housing Commissioner.

Date Granted: April 1, 2005.

Reason Waived: Housing Notice 04-21, issued November 12, 2004, allowed direct loans under section 202 of the National Housing Act with section 8 subsidies to be refinanced using, for underwriting purposes, section 8 rents, even if market rents were lower. This change makes it possible to refinance many more of these apartments for the elderly, providing money for repairs and for supportive services. Regulations for risk-sharing require rents at the lower of market rate or section 8, as indicated in the nature of requirement. To put risk-sharing loans on the same basis as loans under the National Housing Act requires a change in regulations, which will be implemented. Pending the change, the waiver on Mt. Carmel was granted for the Massachusetts Housing Finance Agency to allow underwriting using section 8 rents.

Contact: Michael L. McCullough, Director, Office of Multifamily Development, Department of Housing and Urban Development, 451 Seventh Street SW., Washington, DC 20410-7000, telephone (202) 708-1142.

• Regulation: 24 CFR 290.30(a).

Project/Activity: New York, New York (Renaissance Court—Project Number 012-57231Z). The owner of Renaissance Court has requested prepayment approval of their HUD-held mortgage and assignment of the mortgage to the new mortgagee, Woori American Bank, for mortgage tax savings.

Nature of Requirement: Section 290.3(a) states that “[e]xcept as otherwise provided in § § 290.30(a)(2), HUD will sell HUD-held multifamily mortgages on a competitive basis.” Section 290.31(a)(2) permits negotiated sales to state or local governments for mortgage loans that are current and secured by subsidized projects, provided such loans are sold with FHA insurance.

Granted by: Frank L. Davis, General Deputy Assistant Secretary for Housing—Deputy Federal Housing Commissioner.

Date Granted: May 25, 2005.

Reason Waived: The owner of Renaissance Court has requested, and HUD approved, prepayment of its mortgage on this property. In lieu of paying off the mortgage directly, Renaissance Associates (the “Borrower”) requested that the HUD loan secured by the project be assigned to Woori American Bank for mortgage tax savings purposes. Woori American Bank agreed to this assignment and to pay the full amount of the HUD loan (as of March 11, 2005 the loan amount is $2,297,930.60). This waiver allows the non-competitive sale of the HUD-held mortgage securing the project without FHA insurance.

Contact: Beverly J. Miller, Director, Office of Asset Management, U.S. Department of Housing and Urban Development, 451 Seventh Street, SW., Room 6160, Washington, DC 20410-7000, telephone (202) 708-3730.

• Regulation: 24 CFR 401.461.

Project/Activity: The following projects requested a waiver to the simple interest requirement on the second mortgage to allow compound interest at the applicable Federal Rate. (24 CFR 401.461):

FHA No. | Project | State
07135614 | Kensington Square I | CT
10935073 | Bicentennial Apartments | WY

Nature of Requirement: Section 401.461 requires second mortgages to have an interest rate not more than the applicable federal rate. Section 401.461(b)(1) states that interest will accrue but not compound. The intent of simple interest instead of compound interest is to limit the size of the second mortgage accruals to increase the likelihood of long-term financial and physical integrity.

Granted by: Frank L. Davis, General Deputy Assistant Secretary for Housing-Deputy Federal Housing Commissioner.

Date Granted: May 18, 2005.

Reason Waived: This regulatory restriction would be construed as a form of federal subsidy, thereby creating a loss of tax credit equity. This loss will adversely affect the ability to close the restructuring plan and could cause the loss or deterioration of these affordable housing projects. Therefore, compound interest is necessary for the owner to obtain Low Income Housing Tax Credits under favorable terms and in order to maximize the savings to the federal government.

Contact: Dennis Manning, Office of Affordable Housing Preservation, Department of Housing and Urban Development, 451 Seventh Street, SW., Washington, DC 20410-8000, telephone (202) 708-0001.

• Regulation: 24 CFR 401.600.

Project/Activity: The following projects requested waivers to the 12-month limit at above-market rents (24 CFR 401.600):

FHA No. | Project | State
06535351 | Canton Estates Apartments | MS
04244054 | Channelwood Village (aka Callis Tower) | OH
05935039 | Cooper Road Plaza Apartments | LA
05235312 | Cumberland Manor | MD
06535040 | Eastgate Garden Apartments | MS
06535005 | Francis Street Apartments | MS
08735149 | Indian Hills Apartments | TN
12735200 | Lake Chelan Community Apartments | WA
06544802 | Madonna Manor | MS
06544042 | Northwood Village | MS
06535091 | Southwest Village Apartments | MS
05294031 | YORK PARK APTS | MD

Nature of Requirement: Section 401.600 requires projects be marked down to market rents within 12 months of their first expiration date after January 1, 1998. The intent of this provision is to ensure timely processing of requests for restructuring and that the properties will not default on their FHA insured mortgages during the restructuring process.

Granted by: John C. Weicher, Assistant Secretary for Housing-Federal Housing Commissioner.

Date Granted: April 1, 2005.

Reason Waived: The projects listed above were not assigned to the participating administrative entities (PAEs) in a timely manner or the restructuring analysis was unavoidably delayed due to no fault of the owner.

Contact: Norman Dailey, Office of Affordable Housing Preservation, Department of Housing and Urban Development, 451 Seventh Street, SW., Washington, DC 20410-8000, telephone (202) 708-0001.

• Regulation: 24 CFR 401.600.

Project/Activity: The following projects requested waivers to the 12-month limit at above-market rents (24 CFR 401.600):

FHA No. | Project | State
04535018 | Calhoun Homes | WV
06144105 | Cedar Avenue Apartments | GA
06435239 | Chateau Du Lac | LA
2336614 | Field Corner Granite | MA
08735144 | Gate Manor Apartments | TN
04335176 | Hillside Apartments | OH
08644021 | Knollcrest Manor Apartments | TN
04635046 | Parkview Arms I | OH
04635388 | Parkview Arms II | OH
04344061 | Rosa Parks Apartments | OH
10935006 | Sertoma Senior Citizens Housing, Inc | WY
06592501 | William H. Bell Apartments | MS

Nature of Requirement: Section 401.600 requires projects be marked down to market rents within 12 months of their first expiration date after January 1, 1998. The intent of this provision is to ensure timely processing of requests for restructuring and that the properties will not default on their FHA insured mortgages during the restructuring process.

Granted by: Frank L. Davis, General Deputy Assistant Secretary for Housing-Deputy Federal Housing Commissioner.

Date Granted: May 18, 2005.

Reason Waived: The projects listed above were not assigned to the participating administrative entities (PAEs) in a timely manner or the restructuring analysis was unavoidably delayed due to no fault of the owner.

Contact: Norman Dailey, Office of Affordable Housing Preservation, Department of Housing and Urban Development, 451 7th Street, SW., Washington, DC 20410-8000, telephone (202) 708-0001.

• Regulation: 24 CFR 401.600.

Project/Activity: The following projects requested waivers to the 12-month limit at above-market rents (24 CFR 401.600):

FHA No. | Project | State
11535163 | Alamo Village Apartments | TX
08635149 | Algood Manor Apartments | TN
06244012 | Alta Vista Apartments | AL
06135536 | Amberwood Apartments | GA
08344081 | Belmont Court Apartments | KY
06544052 | Broadway Estates | MS
12344027 | Broadway House | AZ
11735033 | Columbia Square Apts | OK
04235335 | Conneaut Apartments | OH
06535066 | Delta Apts | MS
06535082 | Edgewood Manor Apartments | MS
07344403 | Fowler Apartments | IN
08335012 | Highland Heights | KY
08638005 | Madison View Towers | TN
04344088 | Maplewood Apartments | OH
04244043 | Moody Manor | OH
06544042 | Northwood Village | MS
06235007 | Pines Apts | AL
08635062 | Spring Haven Apartments | TN
17155001 | Tri Cities Vista Low Cost Housing | WA
09144048 | Village Green | SD

Nature of Requirement: Section 401.600 requires projects be marked down to market rents within 12 months of their first expiration date after January 1, 1998. The intent of this provision is to ensure timely processing of requests for restructuring and that the properties will not default on their FHA insured mortgages during the restructuring process.

Granted by: Frank L. Davis, General Deputy Assistant Secretary for Housing-Deputy Federal Housing Commissioner.

Date Granted: June 20, 2005.

Reason Waived: The projects listed above were not assigned to the participating administrative entities (PAEs) in a timely manner or the restructuring analysis was unavoidably delayed due to no fault of the owner.

Contact: Norman Dailey, Office of Affordable Housing Preservation, Department of Housing and Urban Development, 451 Seventh Street, SW., Washington, DC 20410-8000, telephone (202) 708-0001.

• Regulation: 24 CFR 883.606(b).

Project/Activity: Delaware State Housing Authority (Dover, Delaware)—Issuance of Refunding Bonds under section 1012 of McKinney-Vento Act (McKinney Act). HUD did not enforce a regulatory prohibition of collection of both contract administration fees and bond yield override and neglected to issue formal waivers at the time of approval of the transaction in 1991.

Nature of Requirement: This section of the regulation prohibits the collection of an override and a housing assistance payments contract administration fee in connection with the same section 8 project. The issuer collects the override and administrative fee in the projects included in its McKinney Act bond funding.

Granted by: John C. Weicher, Assistant Secretary for Housing—Federal Housing Commissioner.

Date Granted: April 20, 2005.

Reason Waived: The waiver was granted based on a finding that the issuer has used these funds in support of affordable housing. HUD, in approving bond refunding proposals submitted by state housing agencies in the early 1990's, did not issue timely waiver of the regulatory prohibition and corrects that oversight by the waiver granted herein.

Contact: Beverly J. Miller, Director, Office of Asset Management, U.S. Department of Housing and Urban Development, 451 7th Street, SW., Room 6l60, Washington, DC 20410-7000, telephone (202) 708-3730.

• Regulation: 24 CFR 883.606(b).

Project/Activity: Iowa Finance Authority (Des Moines, Iowa)—Issuance of Refunding Bonds under section 1012 of McKinney Act. HUD did not enforce a regulatory prohibition of collection of both contract administration fees and bond yield override and neglected to issue formal waivers at the time of approval of the transaction in 1991.

Nature of Requirement: This section of the regulation prohibits the collection of an override and a housing assistance payments contract administration fee in connection with the same section 8 project. The issuer collects the override and administrative fee in the projects included in its McKinney Act bond funding.

Granted by: Frank L. Davis, General Deputy Assistant Secretary for Housing—Deputy Federal Housing Commissioner.

Date Granted: May 24, 2005.

Reason Waived: The waiver was granted based on a finding that the issuer has used these funds in support of affordable housing. HUD, in approving bond refunding proposals submitted by state housing agencies in the early 1990's, did not issue timely waiver of the regulatory prohibition and corrects that oversight by the waiver granted herein.

Contact: Beverly J. Miller, Director, Office of Asset Management, U.S. Department of Housing and Urban Development, 451 7th Street, SW., Room 6160, Washington, DC 20410-7000, telephone (202) 708-3730.

• Regulation: 24 CFR 883.606(b).

Project/Activity: Maryland Department of Housing and Community Development (Crownsville, Maryland)—Issuance of Refunding Bonds under section 1012 of McKinney Act. HUD did not enforce a regulatory prohibition of collection of both contract administration fees and bond yield override and neglected to issue formal waivers at the time of approval of the transaction in 1991.

Nature of Requirement: This section of the regulation prohibits the collection of an override and a housing assistance payments contract administration fee in connection with the same section 8 project. The issuer collects the override and administrative fee in the projects included in its McKinney Act bond funding.

Granted by: Frank L. Davis, General Deputy Assistant Secretary for Housing—Deputy Federal Housing Commissioner.

Date Granted: May 26, 2005.

Reason Waived: The waiver was granted based on a finding that the issuer has used these funds in support of affordable housing. HUD, in approving bond refunding proposals submitted by state housing agencies in the early 1990's, did not issue timely waiver of the regulatory prohibition and corrects that oversight by the waiver granted herein.

Contact: Beverly J. Miller, Director, Office of Asset Management, U.S. Department of Housing and Urban Development, 451 Seventh Street, SW., Room 6l60, Washington, DC 20410-7000, telephone (202) 708-3730.

• Regulation: 24 CFR 891.100(d).

Project/Activity: Divine Providence Apartments, Eunice, Louisiana, Project Number: 064-EE157/LA48-S031-011.

Nature of Requirement: Section 891.100(d) prohibits amendment of the amount of the approved capital advance funds prior to initial closing.

Granted by: John C. Weicher, Assistant Secretary for Housing-Federal Housing Commissioner.

Date Granted: April 7, 2005.

Reason Waived: The project is economically designed and comparable in cost to similar projects in the area, and the sponsor/owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Villas at Bayou Park, Houston, Texas, Project Number: 114-HD019/TX24-Q011-001.

Nature of Requirement: Section 891.100(d) prohibits amendment of the amount of the approved capital advance funds prior to initial closing.

Granted by: John C. Weicher, Assistant Secretary for Housing-Federal Housing Commissioner.

Date Granted: April 8, 2005.

Reason Waived: The project is economically designed and comparable in cost to similar projects in the area, and the sponsor/owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Peele Manor, Blackstone, Virginia, Project Number: 051-EE100/VA36-S031-004.

Nature of Requirement: Section 891.100(d) prohibits amendment of the amount of the approved capital advance funds prior to initial closing.

Granted by: John C. Weicher, Assistant Secretary for Housing-Federal Housing Commissioner.

Date Granted: April 8, 2005.

Reason Waived: The project is economically designed and comparable in cost to similar projects in the area, and the sponsor/owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Freedom House, Newport, Rhode Island, Project Number: 016-HD039/RI43-Q021-004.

Nature of Requirement: Section 891.100(d) prohibits amendment of the amount of the approved capital advance funds prior to initial closing.

Granted by: John C. Weicher, Assistant Secretary for Housing-Federal Housing Commissioner.

Date Granted: April 8, 2005.

Reason Waived: The project is economically designed and comparable in cost to similar projects in the area, and the sponsor/owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Oak Haven Apartments, Waterford, Pennsylvania, Project Number: 033-EE113/PA28-S031-001.

Nature of Requirement: Section 891.100(d) prohibits amendment of the amount of the approved capital advance funds prior to initial closing.

Granted by: John C. Weicher, Assistant Secretary for Housing-Federal Housing Commissioner.

Date Granted: April 11, 2005.

Reason Waived: The project is economically designed and comparable in cost to similar projects in the area, and the sponsor/owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Kona Kakua, Kailua-Kona, Hawaii, Project Number: 140-HD028/HI10-Q001-003.

Nature of Requirement: Section 891.100(d) prohibits amendment of the amount of the approved capital advance funds prior to initial closing.

Granted by: John C. Weicher, Assistant Secretary for Housing-Federal Housing Commissioner.

Date Granted: April 13, 2005.

Reason Waived: The project is economically designed and comparable in cost to similar projects in the area, and the sponsor/owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: St. Gabriel Manor, St. Martinsville, Louisiana, Project Number: 064-EE141/LA48-S021-008.

Nature of Requirement: Section 891.100(d) prohibits amendment of the amount of the approved capital advance funds prior to initial closing.

Granted by: John C. Weicher, Assistant Secretary for Housing-Federal Housing Commissioner.

Date Granted: April 19, 2005.

Reason Waived: The project is economically designed and comparable in cost to similar projects in the area, and the sponsor/owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Poplar Place, Erie, Pennsylvania, Project Number: 033-HD080/PA28-Q031-001.

Nature of Requirement: Section 891.100(d) prohibits amendment of the amount of the approved capital advance funds prior to initial closing.

Granted by: John C. Weicher, Assistant Secretary for Housing-Federal Housing Commissioner.

Date Granted: April 20, 2005.

Reason Waived: The project is economically designed and comparable in cost to similar projects in the area, and the sponsor/owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Cherbonay at Marsalis Independent Living Center, Dallas, Texas, Project Number: 113-HD030/TX16-Q031-005.

Nature of Requirement: Section 891.100(d) prohibits amendment of the amount of the approved capital advance funds prior to initial closing.

Granted by: John C. Weicher, Assistant Secretary for Housing-Federal Housing Commissioner.

Date Granted: April 22, 2005.

Reason Waived: The project is economically designed and comparable in cost to similar projects in the area, and the sponsor/owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Vine Street Manor at Bethel Square, Kansas City, Missouri, Project Number: 084-EE056/MO16-S031-001.

Nature of Requirement: Section 891.100(d) prohibits amendment of the amount of the approved capital advance funds prior to initial closing.

Granted by: John C. Weicher, Assistant Secretary for Housing-Federal Housing Commissioner.

Date Granted: April 27, 2005.

Reason Waived: The project is economically designed and comparable in cost to similar projects in the area, and the sponsor/owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Shenandoah Haven, Lafayette, Tennessee, Project Number: 086-HD031/TN43-Q031-001.

Nature of Requirement: Section 891.100(d) prohibits amendment of the amount of the approved capital advance funds prior to initial closing.

Granted by: John C. Weicher, Assistant Secretary for Housing-Federal Housing Commissioner.

Date Granted: April 27, 2005.

Reason Waived: The project is economically designed and comparable in cost to similar projects in the area, and the sponsor/owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: CLA Homes I, Springfield, Vinginia, Project Number: 000-HD053/DC39-Q021-001.

Nature of Requirement: Section 891.100(d) prohibits amendment of the amount of the approved capital advance funds prior to initial closing.

Granted by: John C. Weicher, Assistant Secretary for Housing-Federal Housing Commissioner.

Date Granted: April 29, 2005.

Reason Waived: The project is economically designed and comparable in cost to similar projects in the area, and the sponsor/owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Temple Street Elderly Housing, Nahua, New Hampshire, Project Number: 024-EE074/NH36-S031-004.

Nature of Requirement: Section 891.100(d) prohibits amendment of the amount of the approved capital advance funds prior to initial closing.

Granted by: Frank L. Davis, General Deputy Assistant Secretary for Housing—Deputy Federal Housing Commissioner.

Date Granted: May 6, 2005.

Reason Waived: The project is economically designed and comparable in cost to similar projects in the area, and the sponsor/owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Worley's Place, Jacksonville, Arizona, Project Number: 082-EE156/AR37-S031-009.

Nature of Requirement: Section 891.100(d) prohibits amendment of the amount of the approved capital advance funds prior to initial closing.

Granted by: Frank L. Davis, General Assistant Secretary for Housing—Deputy Federal Housing Commissioner.

Date Granted: May 6, 2005.

Reason Waived: The project is economically designed and comparable in cost to similar projects in the area, and the sponsor/owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: The Cove Center, East Providence, Rhode Island, Project Number: 016-HD038/RI43-Q021-003.

Nature of Requirement: Section 891.100(d) prohibits amendment of the amount of the approved capital advance funds prior to initial closing.

Granted by: Frank L. Davis, General Deputy Assistant Secretary for Housing—Deputy Federal Housing Commissioner.

Date Granted: May 9, 2005.

Reason Waived: The project is economically designed and comparable in cost to similar projects in the area, and the sponsor/owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: St. Vincent DePaul Residence, Chicago, Illinois, Project Number: 071-EE192/IL06-S031-016.

Nature of Requirement: Section 891.100(d) prohibits amendment of the amount of the approved capital advance funds prior to initial closing.

Granted by: Frank L. Davis, General Deputy Assistant Secretary for Housing-Deputy Federal Housing Commissioner.

Date Granted: May 17, 2005.

Reason Waived: The project is economically designed and comparable in cost to similar projects in the area, and the sponsor/owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Ottawa River Esttes, Toledo, Ohio, Project Number: 042-HD072/OH12-Q971-004.

Nature of Requirement: Section 891.100(d) prohibits amendment of the amount of the approved capital advance funds prior to initial closing.

Granted by: Frank L. Davis, General Deputy Assistant Secretary for Housing-Deputy Federal Housing Commissioner.

Date Granted: May 19, 2005.

Reason Waived: The project is economically designed and comparable in cost to similar projects in the area, and the sponsor/owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Charles North Housing, Baltimore, Maryland, Project Number: 052-HD062/MD06-Q031-004.

Nature of Requirement: Section 891.100(d) prohibits amendment of the amount of the approved capital advance funds prior to initial closing.

Granted by: Frank L. Davis, General Deputy Assistant Secretary for Housing-Deputy Federal Housing Commissioner.

Date Granted: May 25, 2005.

Reason Waived: The project is economically designed and comparable in cost to similar projects in the area, and the sponsor/owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Tents of Grace Manor, Village of Gnadenhutten, Ohio, Project Number: 042-EE157/OH12-S031-010.

Nature of Requirement: Section 891.100(d) prohibits amendment of the amount of the approved capital advance funds prior to initial closing.

Granted by: Frank L. Davis, General Deputy Assistant Secretary for Housing-Deputy Federal Housing Commissioner.

Date Granted: May 27, 2005.

Reason Waived: The project is economically designed and comparable in cost to similar projects in the area, and the sponsor/owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: New Life Homes 5, Albuquerque, New Mexico, Project Number: 116-HD027/NM16-Q041-003.

Nature of Requirement: Section 891.100(d) prohibits amendment of the amount of the approved capital advance funds prior to initial closing.

Granted by: Frank L. Davis, General Deputy Assistant Secretary for Housing-Deputy Federal Housing Commissioner.

Date Granted: May 27, 2005.

Reason Waived: The project is economically designed and comparable in cost to similar projects in the area, and the sponsor/owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Shakopee Supportive Housing, Shakopee, Minnesota, Project Number: 092-HD062/MN46-Q031-002.

Nature of Requirement: Section 891.100(d) prohibits amendment of the amount of the approved capital advance funds prior to initial closing.

Granted by: Frank L. Davis, General Deputy Assistant Secretary for Housing-Deputy Federal Housing Commissioner.

Date Granted: June 7, 2005.

Reason Waived: The project is economically designed and comparable in cost to similar projects in the area, and the sponsor/owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Lake Senior Housing, Lake Township, Ohio, Project Number: 042-EE146/OH12-S021-009.

Nature of Requirement: Section 891.100(d) prohibits amendment of the amount of the approved capital advance funds prior to initial closing.

Granted by: Frank L. Davis, General Deputy Assistant Secretary for Housing-Deputy Federal Housing Commissioner.

Date Granted: June 7, 2005.

Reason Waived: The project is economically designed and comparable in cost to similar projects in the area, and the sponsor/owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Heartland Christian Towers, Nashville, Tennessee, Project Number: 086-EE048/TN43-S031-002.

Nature of Requirement: Section 891.100(d) prohibits amendment of the amount of the approved capital advance funds prior to initial closing.

Granted by: Frank L. Davis, General Deputy Assistant Secretary for Housing-Deputy Federal Housing Commissioner.

Date Granted: June 8, 2005.

Reason Waived: The project is economically designed and comparable in cost to similar projects in the area, and the sponsor/owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Anixter Village, Chicago, Illinois, Project Number: 071-HD128/IL06-Q021-006.

Nature of Requirement: Section 891.100(d) prohibits amendment of the amount of the approved capital advance funds prior to initial closing.

Granted by: Frank L. Davis, General Deputy Assistant Secretary for Housing-Deputy Federal Housing Commissioner.

Date Granted: June 10, 2005.

Reason Waived: The project is economically designed and comparable in cost to similar projects in the area, and the sponsor/owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: St. George Housing Corporation, Superior, Wisconsin, Project Number: 075-HD074/WI39-Q021-005.

Nature of Requirement: Section 891.100(d) prohibits amendment of the amount of the approved capital advance funds prior to initial closing.

Granted by: Frank L. Davis, General Deputy Assistant Secretary for Housing-Deputy Federal Housing Commissioner.

Date Granted: June 15, 2005.

Reason Waived: The project is economically designed and comparable in cost to similar projects in the area, and the sponsor/owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Bicentennial Apartments, Gillette, Wyoming, Project Number: 109-EE013/WY99-S031-002.

Nature of Requirement: Section 891.100(d) prohibits amendment of the amount of the approved capital advance funds prior to initial closing.

Granted by: Frank L. Davis, General Deputy Assistant Secretary for Housing-Deputy Federal Housing Commissioner.

Date Granted: June 17, 2005.

Reason Waived: The project is economically designed and comparable in cost to similar projects in the area, and the sponsor/owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Delta 10, Cairo, Illinois, Project Number: 072-HD136/IL06-Q031-012.

Nature of Requirement: Section 891.100(d) prohibits amendment of the amount of the approved capital advance funds prior to initial closing.

Granted by: Frank L. Davis, General Deputy Assistant Secretary for Housing-Deputy Federal Housing Commissioner.

Date Granted: June 17, 2005.

Reason Waived: The project is economically designed and comparable in cost to similar projects in the area, and the sponsor/owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: The Shire, Pikesville, Maryland, Project Number: 052-HD061/MD06-Q031-003.

Nature of Requirement: Section 891.100(d) prohibits amendment of the amount of the approved capital advance funds prior to initial closing.

Granted by: Frank L. Davis, General Deputy Assistant Secretary for Housing-Deputy Federal Housing Commissioner.

Date Granted: June 17, 2005.

Reason Waived: The project is economically designed and comparable in cost to similar projects in the area, and the sponsor/owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: St. Pius Place, Cincinnati, Ohio, Project Number: 046-EE065/OH10-S021-004.

Nature of Requirement: Section 891.100(d) prohibits amendment of the amount of the approved capital advance funds prior to initial closing.

Granted by: Frank L. Davis, General Deputy Assistant Secretary for Housing-Deputy Federal Housing Commissioner.

Date Granted: June 20, 2005.

Reason Waived: The project is economically designed and comparable in cost to similar projects in the area, and the sponsor/owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Village of Oakman Manor, Detroit, Michigan, Project Number: 044-EE087/MI28-S031-003.

Nature of Requirement: Section 891.100(d) prohibits amendment of the amount of the approved capital advance funds prior to initial closing.

Granted by: Frank L. Davis, General Deputy Assistant Secretary for Housing-Deputy Federal Housing Commissioner.

Date Granted: June 20, 2005.

Reason Waived: The project is economically designed and comparable in cost to similar projects in the area, and the sponsor/owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Hungry Run Housing Corporation, Rib Lake, Wisconsin, Project Number: 075-EE124/WI39-S031-004.

Nature of Requirement: Section 891.100(d) prohibits amendment of the amount of the approved capital advance funds prior to initial closing.

Granted by: Frank L. Davis, General Deputy Assistant Secretary for Housing-Deputy Federal Housing Commissioner.

Date Granted: June 21, 2005.

Reason Waived: The project is economically designed and comparable in cost to similar projects in the area, and the sponsor/owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.165.

Project/Activity: Unity Gardens Senior Apartments, Windham, Maine, Project Number: 024-EE053/ME36-S001-001.

Nature of Requirement: Section 891.165 provides that the duration of the fund reservation of the capital advance is 18 months from the date of issuance with limited exceptions up to 24 months, as approved by HUD on a case-by-case basis.

Granted by: John C. Weicher, Assistant Secretary for Housing-Federal Housing Commissioner.

Date Granted: April 5, 2005.

Reason Waived: Additional time was needed to prepare for initial closing.

Contact: Willie Spearmon, Director, Office of Housing Assistance and Grant Administration, Department of Housing and Urban Development, 451 Seventh Street, SW., Washington, DC 20410-8000, telephone (202) 708-3000.

• Regulation: 24 CFR 891.165.

Project/Activity: The Daisy House, Rochester, New York, Project Number: 014-EE208/NY06-S011-007.

Nature of Requirement: Section 891.165 provides that the duration of the fund reservation of the capital advance is 18 months from the date of issuance with limited exceptions up to 24 months, as approved by HUD on a case-by-case basis.

Granted by: John C. Weicher, Assistant Secretary for Housing-Federal Housing Commissioner.

Date Granted: April 8, 2005.

Reason Waived: Additional time was needed due to the Phase II Environmental Site Assessment.

Contact: Willie Spearmon, Director, Office of Housing Assistance and Grant Administration, Department of Housing and Urban Development, 451 Seventh Street, SW., Washington, DC 20410-8000, telephone (202) 708-3000.

• Regulation: 24 CFR 891.165.

Project/Activity: Vermont Seniors, Los Angeles, California, Project Number: 122-EE148/CA16-Q981-017.

Nature of Requirement: Section 891.165 provides that the duration of the fund reservation of the capital advance is 18 months from the date of issuance with limited exceptions up to 24 months, as approved by HUD on a case-by-case basis.

Granted by: John C. Weicher, Assistant Secretary for Housing-Federal Housing Commissioner.

Date Granted: April 21, 2005.

Reason Waived: Additional time was needed for the City Council to approve the release of funds.

Contact: Willie Spearmon, Director, Office of Housing Assistance and Grant Administration, Department of Housing and Urban Development, 451 Seventh Street, SW., Washington, DC 20410-8000, telephone (202) 708-3000.

• Regulation: 24 CFR 891.165.

Project/Activity: Harvard Square, Irvine, California, Project Number: 143-HD011/CA43-Q001-001.

Nature of Requirement: Section 891.165 provides that the duration of the fund reservation of the capital advance is 18 months from the date of issuance with limited exceptions up to 24 months, as approved by HUD on a case-by-case basis.

Granted by: John C. Weicher, Assistant Secretary for Housing-Federal Housing Commissioner.

Date Granted: April 27, 2005.

Reason Waived: Additional time was needed to prepare for initial closing.

Contact: Willie Spearmon, Director, Office of Housing Assistance and Grant Administration, Department of Housing and Urban Development, 451 Seventh Street, SW., Washington, DC 20410-8000, telephone (202) 708-3000.

• Regulation: 24 CFR 891.165.

Project/Activity: Senior Residence at Kapolei, Kapolei, Hawaii, Project Number: 140-EE024/HI10-S011-001.

Nature of Requirement: Section 891.165 provides that the duration of the fund reservation of the capital advance is 18 months from the date of issuance with limited exceptions up to 24 months, as approved by HUD on a case-by-case basis.

Granted by: John C. Weicher, Assistant Secretary for Housing-Federal Housing Commissioner.

Date Granted: April 27, 2005.

Reason Waived: Additional time was needed for the sponsor/owner to secure secondary financing.

Contact: Willie Spearmon, Director, Office of Housing Assistance and Grant Administration, Department of Housing and Urban Development, 451 Seventh Street, SW., Washington, DC 20410-8000, telephone (202) 708-3000.

• Regulation: 24 CFR 891.165.

Project/Activity: South Seven Senior Housing, Port Hadlock, Washington, Project Number: 127-EE036/WA19-S021-001.

Nature of Requirement: Section 891.165 provides that the duration of the fund reservation of the capital advance is 18 months from the date of issuance with limited exceptions up to 24 months, as approved by HUD on a case-by-case basis.

Granted by: John C. Weicher, Assistant Secretary for Housing-Federal Housing Commissioner.

Date Granted: May 6, 2005.

Reason Waived: Additional time was needed due to the long and extensive permit process.

Contact: Willie Spearmon, Director, Office of Housing Assistance and Grant Administration, Department of Housing and Urban Development, 451 Seventh Street, SW., Washington, DC 20410-8000, telephone (202) 708-3000.

• Regulation: 24 CFR 891.165.

Project/Activity: Woonsocket Neighborhood Development Corporation, North Smithfield, Rhode Island, Project Number: 016-EE046/RI43-S021-003.

Nature of Requirement: Section 891.165 provides that the duration of the fund reservation of the capital advance is 18 months from the date of issuance with limited exceptions up to 24 months, as approved by HUD on a case-by-case basis.

Granted by: John C. Weicher, Assistant Secretary for Housing-Federal Housing Commissioner.

Date Granted: May 6, 2005.

Reason Waived: Additional time was needed for HUD to receive and issue the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: Hale Mahaolu Ehiku, Kihei, Hawaii, Project Number: 140-EE028/HI10-S021-001.

Nature of Requirement: Section 891.165 provides that the duration of the fund reservation of the capital advance is 18 months from the date of issuance with limited exceptions up to 24 months, as approved by HUD on a case-by-case basis.

Granted by: John C. Weicher, Assistant Secretary for Housing-Federal Housing Commissioner.

Date Granted: May 6, 2005.

Reason Waived: Additional time was needed for the sponsor/owner to secure secondary financing.

Contact: Willie Spearmon, Director, Office of Housing Assistance and Grant Administration, Department of Housing and Urban Development, 451 Seventh Street, SW., Washington, DC 20410-8000, telephone (202) 708-3000.

• Regulation: 24 CFR 891.165.

Project/Activity: Windham Willows, Windham, New York, Project Number: 014-EE210/NY06-S011-009.

Nature of Requirement: Section 891.165 provides that the duration of the fund reservation of the capital advance is 18 months from the date of issuance with limited exceptions up to 24 months, as approved by HUD on a case-by-case basis.

Granted by: John C. Weicher, Assistant Secretary for Housing-Federal Housing Commissioner.

Date Granted: May 6, 2005.

Reason Waived: Additional time was needed for the sponsor/owner to secure approval of the water, well, and septic systems.

Contact: Willie Spearmon, Director, Office of Housing Assistance and Grant Administration, Department of Housing and Urban Development, 451 Seventh Street, SW., Washington, DC 20410-8000, telephone (202) 708-3000.

• Regulation: 24 CFR 891.165.

Project/Activity: Wren's Way, Wooster, Ohio, Project Number: 042-HD108/OH12-Q021-006.

Nature of Requirement: Section 891.165 provides that the duration of the fund reservation of the capital advance is 18 months from the date of issuance with limited exceptions up to 24 months, as approved by HUD on a case-by-case basis.

Granted by: Frank L. Davis, General Deputy Assistant Secretary for Housing-Deputy Federal Housing Commissioner.

Date Granted: May 17, 2005.

Reason Waived: Additional time was needed for HUD to process the firm commitment application and to prepare for initial closing.

Contact: Willie Spearmon, Director, Office of Housing Assistance and Grant Administration, Department of Housing and Urban Development, 451 Seventh Street, SW., Washington, DC 20410-8000, telephone (202) 708-3000.

• Regulation: 24 CFR 891.165.

Project/Activity: Saugatucket Springs, South Kingstown, Rhode Island, Project Number: 016-EE048/RI43-S021-005.

Nature of Requirement: Section 891.165 provides that the duration of the fund reservation of the capital advance is 18 months from the date of issuance with limited exceptions up to 24 months, as approved by HUD on a case-by-case basis.

Granted by: Frank L. Davis, General Deputy Assistant Secretary for Housing-Deputy Federal Housing Commissioner.

Date Granted: May 18, 2005.

Reason Waived: Additional time was needed for HUD to process the firm commitment application and to prepare for initial closing.

Contact: Willie Spearmon, Director, Office of Housing Assistance and Grant Administration, Department of Housing and Urban Development, 451 Seventh Street, SW., Washington, DC 20410-8000, telephone (202) 708-3000.

• Regulation: 24 CFR 891.165.

Project/Activity: Hemlock Nob Estates, Tannersville, New York, Project Number: 014-EE209/NY06-S011-008.

Nature of Requirement: Section 891.165 provides that the duration of the fund reservation of the capital advance is 18 months from the date of issuance with limited exceptions up to 24 months, as approved by HUD on a case-by-case basis.

Granted by: Frank L. Davis, General Deputy Assistant Secretary for Housing-Deputy Federal Housing Commissioner.

Date Granted: May 18, 2005.

Reason Waived: Additional time was needed for the initial closing.

Contact: Willie Spearmon, Director, Office of Housing Assistance and Grant Administration, Department of Housing and Urban Development, 451 Seventh Street, SW., Washington, DC 20410-8000, telephone (202) 708-3000.

• Regulation: 24 CFR 891.165.

Project/Activity: Luther Village I of Dover, Dover, Delaware, Project Number: 032-EE012/DE26-S021-001.

Nature of Requirement: Section 891.165 provides that the duration of the fund reservation of the capital advance is 18 months from the date of issuance with limited exceptions up to 24 months, as approved by HUD on a case-by-case basis.

Granted by: Frank L. Davis, General Deputy Assistant Secretary for Housing-Deputy Federal Housing Commissioner.

Date Granted: May 27, 2005.

Reason Waived: Additional time was needed for the sponsor/owner to locate another site and for HUD to prepare for initial closing.

Contact: Willie Spearmon, Director, Office of Housing Assistance and Grant Administration, Department of Housing and Urban Development, 451 Seventh Street, SW., Washington, DC 20410-8000, telephone (202) 708-3000.

• Regulation: 24 CFR 891.165.

Project/Activity: Cicero Commons Senior Apartments, Cicero, New York, Project Number: 014-EE215/NY06-S021-003.

Nature of Requirement: Section 891.165 provides that the duration of the fund reservation of the capital advance is 18 months from the date of issuance with limited exceptions up to 24 months, as approved by HUD on a case-by-case basis.

Granted by: Frank L. Davis, General Deputy Assistant Secretary for Housing-Deputy Federal Housing Commissioner.

Date Granted: June 6, 2005.

Reason Waived: Additional time was needed for the project to reach initial closing.

Contact: Willie Spearmon, Director, Office of Housing Assistance and Grant Administration, Department of Housing and Urban Development, 451 Seventh Street, SW., Washington, DC 20410-8000, telephone (202) 708-3000.

• Regulation: 24 CFR 891.165.

Project/Activity: Red Lake Senior Apartments, Red Lake, Minnesota, Project Number: 092-EE087/MN46-S021-008.

Nature of Requirement: Section 891.165 provides that the duration of the fund reservation of the capital advance is 18 months from the date of issuance with limited exceptions up to 24 months, as approved by HUD on a case-by-case basis.

Granted by: Frank L. Davis, General Deputy Assistant Secretary for Housing-Deputy Federal Housing Commissioner.

Date Granted: June 6, 2005.

Reason Waived: Additional time was needed for the project to reach initial closing.

Contact: Willie Spearmon, Director, Office of Housing Assistance and Grant Administration, Department of Housing and Urban Development, 451 Seventh Street, SW., Washington, DC 20410-8000, telephone (202) 708-3000.

• Regulation: 24 CFR 891.165.

Project/Activity: Behavioral Health Initiatives, Memphis, Tennessee, Project Number: 081-HD081/TN40-Q021-001.

Nature of Requirement: Section 891.165 provides that the duration of the fund reservation of the capital advance is 18 months from the date of issuance with limited exceptions up to 24 months, as approved by HUD on a case-by-case basis.

Granted by: Frank L. Davis, General Deputy Assistant Secretary for Housing-Deputy Federal Housing Commissioner.

Date Granted: June 7, 2005.

Reason Waived: Additional time was needed for HUD to receive and process the firm commitment.

Contact: Willie Spearmon, Director, Office of Housing Assistance and Grant Administration, Department of Housing and Urban Development, 451 Seventh Street, SW., Washington, DC 20410-8000, telephone (202) 708-3000.

• Regulation: 24 CFR 891.165.

Project/Activity: Gardens at Immanuel House, Hartford, Connecticut, Project Number: 017-EE071/CT26-S021-003.

Nature of Requirement: Section 891.165 provides that the duration of the fund reservation of the capital advance is 18 months from the date of issuance with limited exceptions up to 24 months, as approved by HUD on a case-by-case basis.

Granted by: Frank L. Davis, General Deputy Assistant Secretary for Housing-Deputy Federal Housing Commissioner.

Date Granted: June 10, 2005.

Reason Waived: Additional time was needed for HUD to review the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: VOA Sandusky, Sandusky, Ohio, Project Number: 042-HD110/OH12-Q021-008.

Nature of Requirement: Section 891.165 provides that the duration of the fund reservation of the capital advance is 18 months from the date of issuance with limited exceptions up to 24 months, as approved by HUD on a case-by-case basis.

Granted by: Frank L. Davis, General Deputy Assistant Secretary for Housing-Deputy Federal Housing Commissioner.

Date Granted: June 10, 2005.

Reason Waived: Additional time was needed for the project to reach initial closing.

Contact: Willie Spearmon, Director, Office of Housing Assistance and Grant Administration, Department of Housing and Urban Development, 451 Seventh Street, SW., Washington, DC 20410-8000, telephone (202) 708-3000.

• Regulation: 24 CFR 891.165.

Project/Activity: Whalley Avenue Housing II, New Haven, Connecticut, Project Number: 017-HD031/CT26-Q011-003.

Nature of Requirement: Section 891.165 provides that the duration of the fund reservation of the capital advance is 18 months from the date of issuance with limited exceptions up to 24 months, as approved by HUD on a case-by-case basis.

Granted by: Frank L. Davis, General Deputy Assistant Secretary for Housing-Deputy Federal Housing Commissioner.

Date Granted: June 15, 2005.

Reason Waived: Additional time was needed for HUD to review the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: D'Youville Senior Care Center, Lowell, Massachusetts, Project Number: 023-EE155/MA06-S021-006.

Nature of Requirement: Section 891.165 provides that the duration of the fund reservation of the capital advance is 18 months from the date of issuance with limited exceptions up to 24 months, as approved by HUD on a case-by-case basis.

Granted by: Frank L. Davis, General Deputy Assistant Secretary for Housing-Deputy Federal Housing Commissioner.

Date Granted: June 21, 2005.

Reason Waived: Additional time was needed for the sponsor/owner to hire a new general contractor and to submit the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: Cecilian Village, Philadelphia, PA, Project Number: 034-EE121/PA26-S021-002.

Nature of Requirement: Section 891.165 provides that the duration of the fund reservation of the capital advance is 18 months from the date of issuance with limited exceptions up to 24 months, as approved by HUD on a case-by-case basis.

Granted by: Frank L. Davis, General Deputy Assistant Secretary for Housing-Deputy Federal Housing Commissioner.

Date Granted: June 21, 2005.

Reason Waived: Additional time was needed for the sponsor/owner to prepare the firm commitment application.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: Cedars II, Methuen, Massachusetts, Project Number: 023-EE109/MA06-S991-003.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: John C. Weicher, Assistant Secretary for Housing-Federal Housing Commissioner.

Date Granted: April 7, 2005.

Reason Waived: The project is economically designed and comparable to similar projects in the area, and the sponsor/owner has exhausted all efforts to obtain additional funding from other sources. This project also required additional time to hire a new consultant.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: Cornhill Apartments, Rochester, NY, Project Number: 014-HD099/NY06-Q001-009.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: John C. Weicher, Assistant Secretary for Housing—Federal Housing Commissioner.

Date Granted: April 29, 2005.

Reason Waived: The project is economically designed and comparable to similar projects in the area, and the sponsor/owner has exhausted all efforts to obtain additional funding from other sources. This project also required additional time due to delays resulting from the Phase II Environmental Site Assessment.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: Gill Terrace Retirement Apartments II, Ludlow, Vermont, Project Number: 024-EE066/VT36-S021-001.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Frank L. Davis, General Deputy Assistant Secretary for Housing—Deputy Federal Housing Commissioner.

Date Granted: May 6, 2005.

Reason Waived: The project is economically designed and comparable to similar projects in the area, and the sponsor/owner has exhausted all efforts to obtain additional funding from other sources. This project also required additional time to bid the contract and to obtain local zoning and permits.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: Shasta Manor II, Mt. Shasta, California, Project Number: 136-EE067/CA30-S021-002.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Frank L. Davis, General Deputy Assistant Secretary for Housing—Deputy Federal Housing Commissioner.

Date Granted: May 17, 2005.

Reason Waived: The project is economically designed and comparable to similar projects in the area, and the sponsor/owner has exhausted all efforts to obtain additional funding from other sources. This project also required additional time to prepare for initial closing.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: White Cone Senior Apartments, White Cone, Arizona, Project Number: 123-EE077/AZ20-S001-004.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Frank L. Davis, General Deputy Assistant Secretary for Housing—Deputy Federal Housing Commissioner.

Date Granted: May 17, 2005.

Reason Waived: The project is economically designed and comparable to similar projects in the area, and the sponsor/owner has exhausted all efforts to obtain additional funding from other sources. This project also required additional time to prepare for initial closing.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: Durango VOA Elderly Housing, Durango, Colorado, Project Number: 101-EE054/CO99-S021-001.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Frank L. Davis, General Deputy Assistant Secretary for Housing—Deputy Federal Housing Commissioner.

Date Granted: May 18, 2005.

Reason Waived: The project is economically designed and comparable to similar projects in the area, and the sponsor/owner has exhausted all efforts to obtain additional funding from other sources. This project also required additional time to prepare for initial closing.

Contact: Willie Spearmon, Director, Office of Housing Assistance and Grant Administration, Department of Housing and Urban Development, 451 Seventh Street, SW., Washington, DC 20410-8000, telephone (202) 708-3000.

• Regulation: 24 CFR 891.165 and 24 CFR 891.100(d).

Project/Activity: Cottonwood Manor VIII, Cottonwood, Arizona, Project Number: 123-EE081/AZ20-S011-003.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Frank L. Davis, General Deputy Assistant Secretary for Housing—Deputy Federal Housing Commissioner.

Date Granted: May 24, 2005.

Reason Waived: The project is economically designed and comparable to similar projects in the area, and the sponsor/owner has exhausted all efforts to obtain additional funding from other sources. This project also required additional time due to delays experienced while the City of Cottonwood approved a prior year project.

Contact: Willie Spearmon, Director, Office of Housing Assistance and Grant Administration, Department of Housing and Urban Development, 451 Seventh Street, SW., Washington, DC 20410-8000, telephone (202) 708-3000.

• Regulation: 24 CFR 891.165 and 24 CFR 891.100(d).

Project/Activity: Wakefield Senior Housing, Wakefield, Massachusetts, Project Number: 023-HD158/MA06-S021-009.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Frank L. Davis, General Deputy Assistant Secretary for Housing—Deputy Federal Housing Commissioner.

Date Granted: May 27, 2005.

Reason Waived: The project is economically designed and comparable to similar projects in the area, and the sponsor/owner has exhausted all efforts to obtain additional funding from other sources. This project also required additional time due to the zoning process.

Contact: Willie Spearmon, Director, Office of Housing Assistance and Grant Administration, Department of Housing and Urban Development, 451 Seventh Street, SW., Washington, DC 20410-8000, telephone (202) 708-3000.

• Regulation: 24 CFR 891.165 and 24 CFR 891.100(d).

Project/Activity: Davis Road Group Home, Methuen, Massachusetts, Project Number: 023-HD189/MA06-Q021-007.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Frank L. Davis, General Deputy Assistant Secretary for Housing—Deputy Federal Housing Commissioner.

Date Granted: June 10, 2005.

Reason Waived: The project is economically designed and comparable to similar projects in the area, and the sponsor/owner has exhausted all efforts to obtain additional funding from other sources. This project required additional time due to the zoning process and due to a change in sites.

Contact: Willie Spearmon, Director, Office of Housing Assistance and Grant Administration, Department of Housing and Urban Development, 451 Seventh Street, SW., Washington, DC 20410-8000, telephone (202) 708-3000.

• Regulation: 24 CFR 891.165 and 24 CFR 891.100(d).

Project/Activity: Friendship House Apartments, Gretna, Louisiana, Project Number: 064-HD074/LA48-Q021-007.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Frank L. Davis, General Deputy Assistant Secretary for Housing—Deputy Federal Housing Commissioner.

Date Granted: June 17 2005.

Reason Waived: The project is economically designed and comparable to similar projects in the area, and the sponsor/owner has exhausted all efforts to obtain additional funding from other sources. This project required additional time to reissue the firm commitment.

Contact: Willie Spearmon, Director, Office of Housing Assistance and Grant Administration, Department of Housing and Urban Development, 451 Seventh Street, SW., Washington, DC 20410-8000, telephone (202) 708-3000.

• Regulation: 24 CFR 891.165 and 24 CFRf 891.100(d).

Project/Activity: Northwood Elderly Housing, Northwood, New Hampshire, Project Number: 024-EE064/NH36-S011-003.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Frank L. Davis, General Deputy Assistant Secretary for Housing-Deputy Federal Housing Commissioner.

Date Granted: June 17, 2005.

Reason Waived: The project is economically designed and comparable to similar projects in the area, and the sponsor/owner has exhausted all efforts to obtain additional funding from other sources. This project required additional time due to delays involving the Northwood Village Water District.

Contact: Willie Spearmon, Director, Office of Housing Assistance and Grant Administration, Department of Housing and Urban Development, 451 Seventh Street, SW., Washington, DC 20410-8000, telephone (202) 708-3000.

• Regulation: 24 CFR 891.165 and 24 CFR 891.100(d).

Project/Activity: Marshall Road, Wellsley, Massachusetts, Project Number: 023-HD181/MA06-Q011-009.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Frank L. Davis, General Deputy Assistant Secretary for Housing-Deputy Federal Housing Commissioner.

Date Granted: June 20, 2005.

Reason Waived: The project is economically designed and comparable to similar projects in the area, and the sponsor/owner has exhausted all efforts to obtain additional funding from other sources. This project required additional time due to construction costs and market issues.

Contact: Willie Spearmon, Director, Office of Housing Assistance and Grant Administration, Department of Housing and Urban Development, 451 Seventh Street, SW., Washington, DC 20410-8000, telephone (202) 708-3000.

• Regulation: 24 CFR 891.165 and 24 CFR 891.100(d).

Project/Activity: Miller Road Group Home, Amesbury, Massachusetts, Project Number: 023-HD179/MA06-Q011-007.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Frank L. Davis, General Deputy Assistant Secretary for Housing-Deputy Federal Housing Commissioner.

Date Granted: June 21, 2005.

Reason Waived: The project is economically designed and comparable to similar projects in the area, and the sponsor/owner has exhausted all efforts to obtain additional funding from other sources. This project required additional time due to site changes.

Contact: Willie Spearmon, Director, Office of Housing Assistance and Grant Administration, Department of Housing and Urban Development, 451 Seventh Street, SW., Washington, DC 20410-8000, telephone (202) 708-3000.

• Regulation: 24 CFR 891.165 and 24 CFR 891.100(d).

Project/Activity: Brush Hill Residence, Yarmouth, Massachusetts, Project Number: 023-HD182/MA06-Q011-010.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Frank L. Davis, General Deputy Assistant Secretary for Housing-Deputy Federal Housing Commissioner.

Date Granted: June 21, 2005.

Reason Waived: The project is economically designed and comparable to similar projects in the area, and the sponsor/owner has exhausted all efforts to obtain additional funding from other sources. This project required additional time due to zoning issues.

Contact: Willie Spearmon, Director, Office of Housing Assistance and Grant Administration, Department of Housing and Urban Development, 451 Seventh Street, SW., Washington, DC 20410-8000, telephone (202) 708-3000.

• Regulation: 24 CFR 891.205.

Project/Activity: Stebbins, Alaska (Cupluaq House—Project Number 176-EE012). The Seattle Multifamily Hub requested an age waiver for the subject project due to occupancy problems.

Nature of Requirement: HUD regulations 24 CFR 891 requires occupancy to be limited to very low-income (VLI) elderly persons (i.e., households composed of one or more persons at least one of whom is 62 years of age at the time of initial occupancy). Regulations also require that an owner is to determine the eligibility in selecting tenants.

Granted by: John C. Weicher, Assistant Secretary for Housing—Federal Housing Commissioner.

Date Granted: April 11, 2005.

Reason Waived: The age waiver was granted for this project in order to allow flexibility in renting up this Section 202/8 Supportive Housing for the Elderly project. The vacancy problems are due to the demise of some eligible applicants and the project's remote location in Stebbins which is 600 miles from Anchorage making it a significant deterrent in the owner's ability to attract eligible applicants. This waiver will enable the owner to maintain full occupancy and the project will not fail.

Contact: Beverly J. Miller, Director, Office of Asset Management, U.S. Department of Housing and Urban Development, 451 7th Street, SW., Room 6l60, Washington, DC 20410-5000, telephone (202) 708-3730.

• Regulation: 24 CFR 891.205.

Project/Activity: Mt. Olive Manor II, Flanders, New Jersey, Project Number: 035-031-EE064/NJ39-S041-002.

Nature of Requirement: Section 891.205 requires Section 202 project owners to be single purpose organizations.

Granted by: John C. Weicher, Assistant Secretary for Housing-Federal Housing Commissioner.

Date Granted: April 13, 2005.

Reason Waived: The sponsor/owner will physically attach the subject project to other, previously funded projects, which will permit the subject project to share in the existing community space.

Contact: Willie Spearmon, Director, Office of Housing Assistance and Grant Administration, Department of Housing and Urban Development, 451 Seventh Street, SW., Washington, DC 20410-8000, telephone (202) 708-3000.

• Regulation: 24 CFR 891.205.

Project/Activity: AHEPA 58-II, Wethersfield, Connecticut, Project Number: 017-EE076/CT26-S031-001.

Nature of Requirement: Section 891.205 requires Section 202 project owners to be single purpose organizations.

Granted by: Frank L. Davis, General Deputy Assistant Secretary for Housing-Deputy Federal Housing Commissioner.

Date Granted: June 22, 2005.

Reason Waived: The sponsor/owner will physically attach the subject project to other, previously funded projects, which will permit the subject project to share in the existing community space.

Contact: Willie Spearmon, Director, Office of Housing Assistance and Grant Administration, Department of Housing and Urban Development, 451 Seventh Street, SW., Washington, DC 20410-8000, telephone (202) 708-3000.

• Regulation: 24 CFR 891.410(c).

Project/Activity: Americus, Georgia (Joy Court Village Apartments—Project Number 061-EE083. The Atlanta Multifamily Hub requested an age waiver to alleviate occupancy problems at the property.

Nature of Requirement: HUD regulations in 24 CFR part 891 requires occupancy to be limited to very low-income (VLI) elderly persons (i.e., households composed of one or more persons at least one of whom is 62 years of age at the time of initial occupancy). Regulations also require that an owner is to determine the eligibility in selecting tenants.

Granted by: Frank L. Davis, General Deputy Assistant Secretary for Housing—Deputy Federal Housing Commissioner.

Date Granted: May 17, 2005.

Reason Waived: The waiver of this regulation was granted to allow the project owner flexibility in renting up vacant units to individuals who meet the definition of non elderly (between the ages of 55 and 62 years). The owner proposes an aggressive marketing plan in an effort to attract elderly families as well as changing project management. With these efforts, the owner may be able to achieve full occupancy for the project.

Contact: Beverly J. Miller, Director, Office of Asset Management, U.S. Department of Housing and Urban Development, 451 Seventh Street, SW., Room 6l60, Washington, DC 20410-7000; telephone (202) 708-3730.

• Regulation: 24 CFR 891.410(c).

Project/Activity: Huntington, West Virginia (Fairfield Apartments—Project Number 045-EE007). The Charleston Multifamily Program Center has requested waiver of the elderly requirement for the property to alleviate an occupancy problem.

Nature of Requirement: HUD regulations in 24 CFR part 891 requires occupancy to be limited to very low-income (VLI) elderly persons (i.e., households composed of one or more persons at least one of whom is 62 years of age at the time of initial occupancy). Regulations also require that an owner is to determine the eligibility in selecting tenants.

Granted by: Frank L. Davis, General Deputy Assistant Secretary for Housing—Deputy Federal Housing Commissioner.

Date Granted: May 18, 2005.

Reason Waived: The waiver was granted to alleviate the current occupancy problem. The property has a total of 17 units and is currently at 76 percent occupancy. The property is unable to reach full occupancy due to the “soft” housing market in this area. Waiver of these provisions will allow vacancies to be marketed to non elderly, VIL applicants between the ages of 50 and 62. Providing this waiver will allow the owner additional flexibility in attempting to rent the vacant units and perhaps start a waiting list. The current occupancy level will not support the operations of the property.

Contact: Beverly J. Miller, Director, Office of Asset Management, U.S. Department of Housing and Urban Development, 451 Seventh Street, SW., Room 6160, Washington, DC 20410-5000, telephone (202) 708-3730.

• Regulation: 24 CFR 891.410(c).

Project/Activity: Harford, Pennsylvania (Harford Village—Project Number 034-EE075). The Philadelphia Multifamily Hub requested a waiver of the age and very low income requirements for this property to alleviate the current vacancy problem.

Nature of Requirement: HUD regulations in 24 CFR part 891 requires occupancy to be limited to very low-income (VLI) elderly persons (i.e., households composed of one or more persons at least one of whom is 62 years of age at the time of initial occupancy). Regulations also require that an owner is to determine the eligibility in selecting tenants.

Granted by: Frank L. Davis, General Deputy Assistant Secretary for Housing—Deputy Federal Housing Commissioner.

Date Granted: May 18, 2005.

Reason Waived: The waiver was granted to alleviate its current occupancy problem. The 20-unit property is located in a rural section of northern Pennsylvania. At present there is only one vacant unit with two vacancies anticipated for April 2005. This would result in a vacancy loss of 15 percent. Management has aggressively marketed the property and currently has four prospective applicants on their waiting list, but their incomes are at the low-income level. This waiver will allow the project to reach occupancy levels which will support the operations of the project.

Contact: Beverly J. Miller, Director, Office of Asset Management, U.S. Department of Housing and Urban Development, 451 Seventh Street, SW., Room 6160, Washington, DC 20410-7000, telephone (202) 708-3730.

• Regulation: 24 CFR 891.410(c).

Project/Activity: Weedville, Pennsylvania (St. Joseph's Terrace—Project Number 033-EE080). The Pittsburgh Multifamily Program Center has requested waiver of the very low income requirement for this property to alleviate occupancy problems.

Nature of Requirement: HUD regulations in 24 CFR part 891 requires occupancy to be limited to very low income (VLI) elderly persons (i.e., households composed of one or more persons at least one of whom is 62 years of age at the time of initial occupancy). Regulations also require that an owner is to determine the eligibility in selecting tenants.

Granted by: Frank L. Davis, General Deputy Assistant Secretary for Housing—Deputy Federal Housing Commissioner.

Date Granted: June 21, 2005.

Reason Waived: The waiver was granted based on the project's difficulty in maintaining full occupancy. This 22-unit property currently has 8 vacant units. The Section 8 very low income limits in Elk County, Pennsylvania, are prohibitively low. Surrounding counties, which are included in the market area, have higher Section 8 income limits and a population of elderly applicants who often have higher incomes. This waiver will only permit admission of lower income applicants when there are no very low income applicants to fill vacancies. The current occupancy level will not support the operations of the project.

Contact: Beverly J. Miller, Director, Office of Asset Management, U.S. Department of Housing and Urban Development, 451 Seventh Street, SW., Room 6160, Washington, DC 20410-7000, telephone (202) 708-3730.

• Regulation: 24 CFR 891.575.

Project/Activity: Indianapolis, Indiana (Gaslight Apartments—Project Number 073-EH243). The Indianapolis Multifamily Program Center requested an age and income waiver for this Section 202 Direct Loan property to allow management to market units to non-elderly and low income eligible tenants to alleviate vacancy and financial problems.

Nature of Requirement: HUD regulations in 24 CFR part 891 requires occupancy to be limited to very low-income (VLI) elderly persons (i.e., households composed of one or more persons at least one of whom is 62 years of age at the time of initial occupancy). Regulations also require that an owner is to determine the eligibility in selecting tenants.

Granted by: John C. Weicher, Assistant Secretary for Housing—Federal Housing Commissioner.

Date Granted: April 21, 2005.

Reason Waived: The granted an age and income waiver for this project to alleviate the current occupancy and financial problems at the property. Gaslight Apartments is a 30-unit Section 202 Direct Loan property located in Converse, Indiana, a small rural community with a small senior citizen population located between the towns of Kokomo and Marion, Indiana. The property has only 20 units occupied to date despite extensive outreach efforts. The current occupancy level will not support the operations of the property. The provisions of 24 CFR 891.575 need to be waived in order to allow the property to rent to non-elderly applicants between the ages of 50 and 62 years and to allow applicants to meet the low income eligibility requirement.

Contact: Beverly J. Miller, Director, Office of Asset Management, U.S. Department of Housing and Urban Development, 451 Seventh Street, SW., Room 6160, Washington, DC 20410-7000, telephone (202) 708-3730.

III. Regulatory Waivers Granted by the Office of Public and Indian Housing

For further information about the following regulatory waivers, please see the name of the contact person that immediately follows the description of the waiver granted.

• Regulations: 24 CFR 902.20.

Project/Activity: Avon Park Housing Authority (FL012), Avon Park, FL.

Nature of Requirement: The objective of this regulation is to determine whether a public housing agency (PHA) is meeting the standard of decent, safe, sanitary, and in good repair. The Real Estate Assessment Center (REAC) provides for an independent physical inspection of a PHA's property of properties that includes a statistically valid sample of the units.

Granted by: Michael Liu, Assistant Secretary for Public and Indian Housing.

Date Granted: April 4, 2005.

Reason Waived: Hurricanes Charley, Francis, and Jeanne caused extensive damage to residential, administrative and community buildings and landscape. Repairs are not expected to be completed until March 2006.

Contact: David R. Ziaya, Program Manager, NASS, Real Estate Assessment Center, Office of Public and Indian Housing, Department of Housing and Urban Development, 550 12th Street, SW., Suite 100, Washington, DC 20410-5000, telephone (202) 475-8574.

• Regulation: 24 CFR 902.20, 902.40, 902.50.

Project/Activity: Bartow Housing Authority (FL026) Bartow, FL.

Nature of Requirement: The objective of 24 CFR 902.20 is to determine whether a PHA is meeting the standard of decent, safe, sanitary, and in good repair. REAC provides for an independent physical inspection of a PHA's property of properties that includes a statistically valid sample of the units. Management operations certification is required to be submitted within two months after the PHA fiscal year end (24 CFR 902.40). The Resident Service and Satisfaction Indicator is performed through the use of a survey. The PHA is also responsible for completing implementation plan activities and developing a follow-up plan (24 CFR 902.50).

Granted by: Paula O. Blunt, General Deputy Assistant Secretary for Public and Indian Housing.

Date Granted: May 10, 2005.

Reason Waived: The PHA's developments suffered major roof and interior damage from Hurricanes Charley and Jeanne resulting in the relocation of tenants to other units and off site location. The PHA is waived from physical inspections, management operations certification and resident satisfaction survey for Fiscal Year (FY) 2005.

Contact: David R. Ziaya, Program Manager, NASS, Real Estate Assessment Center, Office of Public and Indian Housing, Department of Housing and Urban Development, 550 12th Street, SW., Suite 100, Washington, DC 20410-5000, telephone (202) 475-8574.

• Regulation: 24 CFR 902.20.

Project/Activity: Housing Authority of the City of Bay Minette (AL164), Bay Minette, AL.

Nature of Requirement: The objective of this regulation is to determine whether a PHA is meeting the standard of decent, safe, sanitary, and in good repair. REAC provides for an independent physical inspection of a PHA's property of properties that includes a statistically valid sample of the units.

Granted by: Paula O. Blunt, General Deputy Assistant Secretary for Public and Indian Housing.

Date Granted: May 10, 2005.

Reason Waived: The PHA sustained mild to severe hurricane damage to 91 of the 107 housing units in September 2004. The PHA is waived from physical inspections for FY2005.

Contact: David R. Ziaya, Program Manager, NASS, Real Estate Assessment Center, Office of Public and Indian Housing, Department of Housing and Urban Development, 550 12th Street, SW., Suite 100, Washington, DC 20410-5000, telephone (202) 475-8574.

• Regulation: 24 CFR 902.20, 902.30, 902.40, and 902.50.

Project/Activity: Lake Wales Housing Authority (FL071), Lake Wales, FL.

Nature of Requirement: The objective of 24 CFR 902.20 is to determine whether a PHA is meeting the standard of decent, safe, sanitary, and in good repair. REAC provides for an independent physical inspection of a PHA's property of properties that includes a statistically valid sample of the units. Additionally, the regulation establishes certain reporting compliance dates; namely, the Audited financial statements are required to be submitted no later than nine months after the PHA's fiscal year end (FYE), in accordance with the Single Audit Act and OMB Circular A-133 (24 CFR 902.30), and the Management operations certifications are required to be submitted within two months after the PHA's FYE (24 CFR 902.40). The Resident Service and Satisfaction Indicator is performed through the use of a survey. The PHA is responsible for completing implementation plan activities and developing a follow-up plan (24 CFR 902.50).

Granted by: Michael Liu, Assistant Secretary for Public and Indian Housing.

Date Granted: April 15, 2005.

Reason Waived: The PHA experienced severe damages caused by Hurricanes Charley, Frances and Jeanne to the administrative offices, and to two housing developments.

Contact: David R. Ziaya, Program Manager, NASS, Real Estate Assessment Center, Office of Public and Indian Housing, Department of Housing and Urban Development, 550 12th Street, SW., Suite 100, Washington, DC 20410-5000, telephone (202) 475-8574.

• Regulation: 24 CFR 902.30.

Project/Activity: City of Lordsburg Housing Authority (NM034), Lordsburg, NM.

Nature of Requirement: The regulation establishes certain reporting compliance dates. The audited financial statements are required to be submitted no later than nine months after the PHA's FYE, in accordance with the Single Audit Act and OMB Circular A-133.

Granted by: Paula O. Blunt, General Deputy Assistant Secretary for Public and Indian Housing.

Date Granted: May 19, 2005.

Reason Waived: The PHA has been unable to submit its audited report to REAC because the Financial Assessment Sub-System (FASS) was not accepting the PHA's new auditor's identification number in the system. This resulted in a delayed PHA's audited financial submission.

Contact: David R. Ziaya, Program Manager, NASS, Real Estate Assessment Center, Office of Public and Indian Housing, Department of Housing and Urban Development, 550 12th Street, SW., Suite 100, Washington, DC 20410-5000, telephone (202) 475-8574.

• Regulation: 24 CFR 902.20, 902.30, 902.40, and 902.50.

Project/Activity: Punta Gorda Housing Authority (FL060), Punta Gorda, FL.

Nature of Requirement: The objective of 24 CFR 902.20 is to determine whether a PHA is meeting the standard of decent, safe, sanitary, and in good repair. REAC provides for an independent physical inspection of a PHA's property of properties that includes a statistically valid sample of the units. Additionally, the regulation establishes certain reporting compliance dates; namely, the unaudited financial statements are required to be submitted two months after the PHA's FYE and the audited financial statements are required to be submitted no later than nine months after the PHA's FYE, in accordance with the Single Audit Act and OMB Circular A-133 (24 CFR 902.30), and the Management operations certifications are required to be submitted within two months after the PHA's FYE (24 CFR 902.40). The Resident Service and Satisfaction Indicator is performed through the use of a survey. The PHA is responsible for completing implementation plan activities and developing a follow-up plan (24 CFR 902.50).

Granted by: Michael Liu, Assistant Secretary for Public and Indian Housing.

Date Granted: April 15, 2005.

Reason Waived: The PHA experienced severe damages caused by Hurricane Charley, which destroyed 154 of the PHA's 184 units and two non-dwelling buildings. The PHA is waived from submitting its financial data, and will not be subject to physical inspection and resident survey for FY2005 and FY2006, and from the management operations certification for FY2005 only.

Contact: David R. Ziaya, Program Manager, NASS, Real Estate Assessment Center, Office of Public and Indian Housing, Department of Housing and Urban Development, 550 12th Street, SW., Suite 100, Washington, DC 20410-5000, telephone (202) 475-8574.

• Regulation: 24 CFR 982.505(c)(3).

Project/Activity: Municipality of Vega Baja Housing Division (MVBHD), Vega Baja, PR. The MVBHD requested a waiver of payment standard (PS) requirements to permit it to implement reduced PSs earlier than required to avoid termination of housing assistance payments (HAP) contracts during calendar year 2005 due to insufficient funding.

Nature of Requirement: Section 982.505(c)(3) states that if the amount on generally must be used to calculate the monthly housing assistance payment (HAP) for the family beginning at the effective date of the family's second regular reexamination following the effective date of the decrease.

Granted by: Paula O. Blunt, General Deputy Assistant Secretary for Public and Indian Housing.

Date Granted: June 22, 2005.

Reason Waived: The waiver was granted because this cost-saving measure would enable the MVBHD to both manage its Housing Choice Voucher program within allocated budget authority and avoid the termination of HAP contracts due to insufficient funding.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Jacksonville Housing Authority (JHA), Jacksonville, FL. The JHA requested a waiver of payment standard (PS) requirements to permit it to implement reduced PSs earlier than required to avoid termination of HAP contracts during calendar year 2005 due to insufficient funding.

Nature of Requirement: Section 982.505(c)(3) states that if the amount on the PS schedule is decreased during the term of the HAP contract, the lower PS amount generally must be used to calculate the monthly HAP for the family beginning at the effective date of the family's second regular reexamination following the effective date of the decrease.

Granted by: Paula O. Blunt, General Deputy Assistant Secretary for Public and Indian Housing.

Date Granted: June 22, 2005.

Reason Waived: The waiver was granted because this cost-saving measure would enable the JHA to both manage its Housing Choice Voucher program within allocated budget authority and avoid the termination of HAP contracts due to insufficient funding.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Cincinnati Metropolitan Housing Authority (CMHA), Cincinnati, OH. The CMHA requested a waiver of payment standard (PS) requirements to permit it to implement reduced payment standards earlier than required to avoid termination of HAP contracts during calendar year 2005 due to insufficient funding.

Nature of Requirement: Section 982.505(c)(3) states that if the amount on the PS schedule is decreased during the term of the HAP contract, the lower PS amount generally must be used to calculate the monthly HAP for the family beginning at the effective date of the family's second regular reexamination following the effective date of the decrease.

Granted by: Paula O. Blunt, General Deputy Assistant Secretary for Public and Indian Housing.

Date Granted: June 22, 2005.

Reason Waived: The waiver was granted because this cost-saving measure would enable the CMHA to both manage its Housing Choice Voucher program within allocated budget authority and avoid the termination of HAP contracts due to insufficient funding.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Housing Authority of the City of Key West (HACKW), Key West, FL. The APHA requested a waiver of payment standard (PS) requirements to permit it to implement reduced PSs earlier than required to avoid termination of HAP contracts during calendar year 2005 due to insufficient funding.

Nature of Requirement: Section 982.505(c)(3) states that if the amount on the PS schedule is decreased during the term of the HAP contract, the lower PS amount generally must be used to calculate the monthly HAP for the family beginning at the effective date of the family's second regular reexamination following the effective date of the decrease.

Granted by: Paula O. Blunt, General Deputy Assistant Secretary for Public and Indian Housing.

Date Granted: June 21, 2005.

Reason Waived: The waiver was granted because this cost-saving measure would enable the HACKW to both manage its Housing Choice Voucher program within allocated budget authority and avoid the termination of HAP contracts due to insufficient funding.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Monroe County Housing Authority (MCHA), Key West, FL. The MCHA requested a waiver of payment standard (PS) requirements to permit it to implement reduced PSs earlier than required to avoid termination of HAP contracts during calendar year 2005 due to insufficient funding.

Nature of Requirement: Section 982.505(c)(3) states that if the amount on the PS schedule is decreased during the term of the HAP contract, the lower PS amount generally must be used to calculate the monthly HAP for the family beginning at the effective date of the family's second regular reexamination following the effective date of the decrease.

Granted by: Paula O. Blunt, General Deputy Assistant Secretary for Public and Indian Housing.

Date Granted: June 21, 2005.

Reason Waived: The waiver was granted because this cost-saving measure would enable the MCHA to both manage its Housing Choice Voucher program within allocated budget authority and avoid the termination of HAP contracts due to insufficient funding.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Dickey/Sargent Housing Authority (DSHA), Ellendale, ND. The housing authority requested a waiver of payment standard (PS) requirements to permit it to implement reduced payment standards earlier than required to avoid termination of housing assistance payments (HAP) contracts during calendar year 2005 due to insufficient funding.

Nature of Requirement: Section 982.505(c)(3) states that if the amount on the PS schedule is decreased during the term of the HAP contract, the lower PS amount generally must be used to calculate the monthly HAP for the family beginning at the effective date of the family's second regular reexamination following the effective date of the decrease.

Granted by: Paula O. Blunt, General Deputy Assistant Secretary for Public and Indian Housing.

Date Granted: June 20, 2005.

Reason Waived: The waiver was granted because this cost-saving measure would enable the DSHA to both manage its Housing Choice Voucher program within allocated budget authority and avoid the termination of HAP contracts due to insufficient funding.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Housing Authority of Skagit County (HASC), Mount Vernon, WA. The HASC requested a waiver of payment standard (PS) requirements to permit it to implement reduced payment standards earlier than required to avoid termination of HAP contracts during calendar year 2005 due to insufficient funding.

Nature of Requirement: Section 982.505(c)(3) states that if the amount on the PS schedule is decreased during the term of the HAP contract, the lower PS amount generally must be used to calculate the monthly HAP for the family beginning at the effective date of the family's second regular reexamination following the effective date of the decrease.

Granted by: Paula O. Blunt, General Deputy Assistant Secretary for Public and Indian Housing.

Date Granted: June 13, 2005.

Reason Waived: The waiver was granted because this cost-saving measure would enable the HASC to both manage its Housing Choice Voucher program within allocated budget authority and avoid the termination of HAP contracts due to insufficient funding.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Housing Authority of the City of Crystal City (HACCC), Crystal City, TX. The HACCC requested a waiver of payment standard (PS) requirements to permit it to implement reduced PSs earlier than required to avoid termination of HAP contracts during calendar year 2005 due to insufficient funding.

Nature of Requirement: Section 982.505(c)(3) states that if the amount on the PS schedule is decreased during the term of the HAP contract, the lower PS amount generally must be used to calculate the monthly HAP for the family beginning at the effective date of the family's second regular reexamination following the effective date of the decrease.

Granted by: Paula O. Blunt, General Deputy Assistant Secretary for Public and Indian Housing.

Date Granted: June 13, 2005.

Reason Waived: The waiver was granted because this cost-saving measure would enable the HACCC to both manage its Housing Choice Voucher program within allocated budget authority and avoid the termination of HAP contracts due to insufficient funding.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Housing Authority of the City of South Bend (HASB), South Bend, IN. The HASB requested a waiver of payment standard (PS) requirements to permit it to implement reduced PSs earlier than required to avoid termination of HAP contracts during calendar year 2005 due to insufficient funding.

Nature of Requirement: Section 982.505(c)(3) states that if the amount on the PS schedule is decreased during the term of the HAP contract, the lower PS amount generally must be used to calculate the monthly HAP for the family beginning at the effective date of the family's second regular reexamination following the effective date of the decrease.

Granted by: Paula O. Blunt, Deputy Assistant Secretary for Public and Indian Housing.

Date Granted: June 3, 2005.

Reason Waived: The waiver was granted because this cost-saving measure would enable the HASB to both manage its Housing Choice Voucher program within allocated budget authority and avoid the termination of HAP contracts due to insufficient funding.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Inglewood Housing Authority (IHA), Inglewood, CA. The IHA requested a waiver of payment standard (PS) requirements to permit it to implement reduced PSs earlier than required to avoid termination of HAP contracts during calendar year 2005 due to insufficient funding.

Nature of Requirement: Section 982.505(c)(3) states that if the amount on the PS schedule is decreased during the term of the HAP contract, the lower PS amount generally must be used to calculate the monthly HAP for the family beginning at the effective date of the family's second regular reexamination following the effective date of the decrease.

Granted by: Paula O. Blunt, General Deputy Assistant Secretary for Public and Indian Housing.

Date Granted: June 3, 2005.

Reason Waived: The waiver was granted because this cost-saving measure would enable the IHA to both manage its Housing Choice Voucher program within allocated budget authority and avoid the termination of HAP contracts due to insufficient funding.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Coos-Curry Housing Authority (CCHA), North Bend, OR. The CCHA requested a waiver of payment standard (PS) requirements to permit it to implement reduced PSs earlier than required to avoid termination of HAP contracts during calendar year 2005 due to insufficient funding.

Nature of Requirement: Section 982.505(c)(3) states that if the amount on the PS schedule is decreased during the term of the HAP contract, the lower PS amount generally must be used to calculate the monthly HAP for the family beginning at the effective date of the family's second regular reexamination following the effective date of the decrease.

Granted by: Paula O. Blunt, General Deputy Assistant Secretary for Public and Indian Housing.

Date Granted: June 3, 2005.

Reason Waived: The waiver was granted because this cost-saving measure would enable the CCHA to both manage its Housing Choice Voucher program within allocated budget authority and avoid the termination of HAP contracts due to insufficient funding.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.517(c).

Project/Activity: Maine State Housing Authority (MSHA), Augusta, ME. The MSHA requested a waiver of utility allowance adjustment requirements to permit it to not revise its utility allowances so that it could reduce program costs to avoid termination of HAP contracts during calendar year 2005 due to insufficient funding.

Nature of Requirement: Section 982.517(c) provides that a public housing agency (PHA) must review its utility allowances each year and revise its allowances for a utility category if there has been a change of 10 percent or more in the utility rate since the last time the utility allowance schedule was revised.

Granted by: Paula O. Blunt, General Deputy Assistant Secretary for Public and Indian Housing.

Date Granted: June 3, 2005.

Reason Waived: The waiver was granted because this cost-saving measure would enable the MSHA to both manage its Housing Choice Voucher program within allocated budget authority and avoid the termination of HAP contracts due to insufficient funding.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 983.3(a)(2).

Project/Activity: Choanoke Area Development Association (CADA), Bertie County, NC. The CADA requested a waiver regarding the availability of vouchers for project-based assistance so that it could enter into an agreement to enter into a HAP contract for 31 units at Ahoskie High School.

Nature of Requirement: Section 983.3(a)(2) requires that the number of units to be project-based must not be under a tenant-based or project based HAP contract or otherwise committed, e.g., vouchers issued to families searching for housing or units under an AHAP.

Granted by: Paula O. Blunt, General Deputy Assistant Secretary for Public and Indian Housing.

Date Granted: June 30, 2005.

Reason Waived: The requirement to have vouchers available at the time of execution of a HAP contract was waived for Ahoskie High School since the project will not be ready for occupancy until January or February 2007, at which time the CADA should have sufficient turnover of vouchers to meet its contractual obligations under a HAP contract.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 983.51(a), (b) and (c) and Section II of subpart F of the January 16, 2001, Federal Register Notice, Revisions to PHA Project-Based Assistance (PBA) Program; Initial Guidance.

Project/Activity: Bellingham/Whatcom County Housing Authority (Chestnut Street Project), Housing Authority of Island County (Marjie's House), Housing Authority of Thurston County (Falls Point) and Spokane Housing Authority (Cedar West, Woodhaven, Summit View, St. Margaret's and Riverwalk Point I), WA. All four public housing agencies (PHAs) requested a waiver of the competitive selection requirements, and two of the four also requested an exception to the 25 percent cap on the number of units in a building that can have PBA attached, to permit them to attach PBA to units in all eight projects.

Nature of Requirement: Section 983.51 requires competitive selection of owner proposals in accordance with a housing authority's HUD-approved advertisement and unit selection policy. Section II of subpart F requires that no more than 25 percent of the dwelling units in any building may be assisted under a HAP contract for PBA except for dwelling units that are specifically made available for elderly families, disabled families and families receiving supportive services. Until regulations are promulgated regarding the category of families receiving supportive services, this aspect of the law is implemented on a case-by-case basis.

Granted by: Paula O. Blunt, General Deputy Assistant Secretary for Public and Indian Housing.

Date Granted: June 20, 2005.

Reason Waived: Competitive selection requirements were waived since in early 2004 the Washington State Legislature appropriated $2 million to the Washington Families Fund (WFF) to provide comprehensive case management and supportive services to homeless families; and, in support of that effort, PHAs through the Association of Washington Housing Authorities (AWHA) agreed to attach PBA to projects receiving WFF supportive services dollars. Aids Housing of Washington (AHW) was selected to administer the WFF and issued a request for project proposals for WFF dollars on January 25, 2005. The subject projects were selected pursuant to that competitive process. An exception to the unit cap was granted for two of the eight projects (Marjie's House and St. Margaret's) since the projects that are funded under the WFF will have project-specific social service budgets that will cover case management and supportive services. Services will include individualized case management, literacy and job training, assistance in domestic violence and other trauma, referrals for mental health and substance abuse treatment, financial management, basic living skills, childcare, transportation assistance, housing counseling, and parenting skills education and training.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 983.151(c).

Project/Activity: Cedar Rapids Housing Services (CRHS), Cedar Rapids, IA. The CRHS requested a waiver of the regulation so that it could renew the project-based certificate (PBC) housing assistance payments (HAP) contract for Edgewood Apartments beyond the expiration date of the Annual Contributions Contract since funding increments are only renewed for terms less than a year.

Nature of Requirement: The regulation requires that, with HUD field office approval, and at the sole option of the public housing agency (PHA), PHAs may renew expiring HAP contracts for such period or periods as the HUD field office determines appropriate to achieve long-term affordability of the assisted housing, provided that the term does not extend beyond the Annual Contributions Contract expiration date for the funding source. PHAs must identify the funding source for renewals; different funding sources may be used for the initial term and renewal terms of the HAP contract.

Granted by: Paula O. Blunt, General Deputy Assistant Secretary for Public and Indian Housing.

Date Granted: June 20, 2005.

Reason Waived: Approval to waive the regulation was granted in order to allow the CRHS to provide rental assistance at these developments up to the maximum 15 years allowed under the PBC HAP contracts without having to request HUD field office approval to do so every year or less.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: Section II of subpart E of the January 16, 2001, Federal Register Notice, Revisions to PHA Project-Based Assistance (PBA) Program; Initial Guidance.

Project/Activity: Michigan State Housing Development Authority (MSHDA), Kalamazoo, MI. The MSHDA requested an exception to the deconcentration requirements to permit it to attach PBA to five units of existing units at Summit Park, which is in census tract 5 that has a poverty rate of 22 percent.

Nature of Requirement: Section II of subpart E of the Initial Guidance requires that in order to meet the Department's goal of deconcentration and expanding housing and economic opportunities, the projects must be in census tracts with poverty rates of less than 20 percent.

Granted by: Paula O. Blunt, General Deputy Assistant Secretary for Public and Indian Housing.

Date Granted: June 22, 2005.

Reason Waived: An exception to the deconcentration requirements was granted since recent development within a one-mile radius of the project includes a new Felpaush grocery store, a strip mall that has retail, dining, clothing and banking facilities, and new offices for Northside Community Development that will include daycare and community space, which will provide job opportunities for residents of the census tract.

Contact: Dr. Alfred Jurison, Director, Housing Voucher Management and Operations Division, Office of Public Housing and Voucher Programs, Office of Public and Indian Housing, Department of Housing and Urban Development, 451 Seventh Street, SW., Room 4210, Washington, DC 20410-5000, telephone (202) 708-0477.

• Regulation: Section II of subpart E of the January 16, 2001, Federal Register Notice, Revisions to PHA Project-Based Assistance (PBA) Program; Initial Guidance.

Project/Activity: Massachusetts Department of Housing and Community Development (DHCD). The DHCD requested an exception to the Initial Guidance for the Acushnet Commons project that is located in a census tract with a poverty rate greater than 20 percent.

Nature of Requirement: Section II of subpart E of the Initial Guidance requires that in order to meet the Department's goal of deconcentration and expanding housing and economic opportunities, the projects must be in census tracts with poverty rates of less than 20 percent.

Granted by: Paula O. Blunt, General Deputy Assistant Secretary for Public and Indian Housing.

Date Granted: June 20, 2005.

Reason Waived: Approval of the exception for deconcentration was granted since comprehensive services will be provided at the project to assist in educational attainment for the residents that ultimately will result in economic improvement. The services that will be provided include career development, education, job training, and other support services such as computer classes, and University of Massachusetts Dartmouth college courses in accounting and business. The development of a new ferry terminal may create job opportunities for residents.

Contact: Dr. Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: Section II of subpart E of the January 16, 2001, Federal Register Notice, Revisions to PHA Project-Based Assistance (PBA) Program; Initial Guidance.

Project/Activity: Massachusetts Department of Housing and Community Development (MDHCD), Haverhill, MA. The MDHCD requested an exception to the deconcentration requirements to permit it to attach PBA to 13 single-room occupancy units at Winter Street Housing, which is in census tract 2601 with a poverty rate of 23.6 percent.

Nature of Requirement: Section II of subpart E of the Initial Guidance requires that in order to meet the Department's goal of deconcentration and expanding housing and economic opportunities, the projects must be in census tracts with poverty rates of less than 20 percent.

Granted by: Paula O. Blunt, General Deputy Assistant Secretary for Public and Indian Housing.

Date Granted: June 13, 2005.

Reason Waived: An exception to the deconcentration requirements was granted since the neighborhood around the project is undergoing significant revitalization. Construction of a new Walgreen's and CVS will begin in a few months and will create approximately 20 jobs in addition to those created by the construction of the stores. The investment in both buildings is approximately $4 million. There are several market rate developments that have been approved or proposed for development. These include a 56-unit and a 60-unit market rate development.

The market value of the units in these developments will range between $160,000 and $250,000. The commercial and residential development and their related activities that will create jobs and housing opportunities are consistent with the goal of deconcentrating poverty and expanding housing and economic opportunities.

Contact: Dr. Alfred Jurison, Director, Housing Voucher Management and Operations Division, Office of Public Housing and Voucher Programs, Office of Public and Indian Housing, Department of Housing and Urban Development, 451 Seventh Street, SW., Room 4210, Washington, DC 20410-5000, telephone (202) 708-0477.

• Regulation: Section II of subpart E of the January 16, 2001, Federal Register Notice, Revisions to PHA Project-Based Assistance (PBA) Program; Initial Guidance.

Project/Activity: Housing Authority of Winston-Salem (HAWS), Winston-Salem, NC.

The HAWS requested an exception to the deconcentration requirements to permit it to attach PBA to 50 units of elderly housing and 28 units in the family development at Happy Hills Gardens HOPE VI Development, which is in census tract 8.02 with a poverty rate of 54.9 percent.

Nature of Requirement: Section II of subpart E of the Initial Guidance requires that in order to meet the Department's goal of deconcentration and expanding housing and economic opportunities, the projects must be in census tracts with poverty rates of less than 20 percent.

Granted by: Paula O. Blunt, General Deputy Assistant Secretary for Public and Indian Housing.

Date Granted: June 13, 2005.

Reason Waived: An exception to the deconcentration requirements was granted since one of the goals of a HOPE VI revitalization project is to transform public housing, which includes lessening concentrations of poverty. Toward that goal, the total number of replacement units that will be assisted will be 130 less than the 488 units in the original public housing development.

Contact: Dr. Alfred Jurison, Director, Housing Voucher Management and Operations Division, Office of Public Housing and Voucher Programs, Office of Public and Indian Housing, Department of Housing and Urban Development, 451 Seventh Street, SW., Room 4210, Washington, DC 20410-5000, telephone (202) 708-0477.

• Regulation: Section II of subpart E of the January 16, 2001, Federal Register Notice, Revisions to PHA Project-Based Assistance (PBA) Program; Initial Guidance.

Project/Activity: Massachusetts Department of Housing and Community Development (MDHCD), New Bedford, MA. The MDHCD requested an exception to the deconcentration requirements to permit it to attach PBA to three units of rehabilitated housing at Union Street Lofts, which is in census tract 6518 that has a poverty rate of 37.46 percent.

Nature of Requirement: Section II of subpart E of the Initial Guidance requires that in order to meet the Department's goal of deconcentration and expanding housing and economic opportunities, the projects must be in census tracts with poverty rates of less than 20 percent.

Granted by: Paula O. Blunt, General Deputy Assistant Secretary for Public and Indian Housing.

Date Granted: June 6, 2005.

Reason Waived: An exception to the deconcentration requirements was granted since, in addition to the mixed income population of the project, the first floor will be rented to businesses that will offer job opportunities to residents of the community. Other recent economic initiatives in downtown New Bedford include: the Star Store, a former department store that has been converted to classroom space for the University of Massachusetts College of Visual and Performing Arts; the new corporate headquarters of Sovereign Bank; and the $10 million restoration and expansion of the Whaling Museum.

Contact: Dr. Alfred Jurison, Director, Housing Voucher Management and Operations Division, Office of Public Housing and Voucher Programs, Office of Public and Indian Housing, Department of Housing and Urban Development, 451 Seventh Street, SW., Room 4210, Washington, DC 20410-5000, telephone (202) 708-0477.

• Regulation: Section II of subpart F of the January 16, 2001, Federal Register Notice, Revisions to PHA Project-Based Assistance (PBA) Program; Initial Guidance.

Project/Activity: Housing Authority of the City of Loveland (HACL), Loveland, CO. The HACL requested an exception to the 25 percent cap on the number of units in a building that can have PBA attached to permit it to attach PBA to all 20 units at Willow Place.

Nature of Requirement: Section II of subpart F requires that no more than 25 percent of the dwelling units in any building may be assisted under a HAP contract for PBA except for dwelling units that are specifically made available for elderly families, disabled families and families receiving supportive services. Until regulations are promulgated regarding the category of families receiving supportive services, this aspect of the law is implemented on a case-by-case basis.

Granted by: Paula O. Blunt, General Deputy Assistant Secretary for Public and Indian Housing.

Date Granted: June 20, 2005.

Reason Waived: An exception to the unit cap was granted since the HACL still operates a Project Self Sufficiency program at Willow Place and its supportive services include intensive on-site case management, employment training and counseling, educational programs, childcare, classes on parenting and safety training for children. The supportive services provided at Willow Place are consistent with the statute.

Contact: Dr. Alfred Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Sheridan Housing Authority (SHA), Englewood, CO. The SHA requested a waiver of payment standard (PS) requirements to permit it to implement reduced PSs earlier than required to avoid termination of housing assistance payments (HAP) contracts during calendar year 2005 due to insufficient funding.

Nature of Requirement: Section 982.505(c)(3) states that if the amount on the PS schedule is decreased during the term of the HAP contract, the lower PS amount generally must be used to calculate the monthly HAP for the family beginning at the effective date of the family's second regular reexamination following the effective date of the decrease.

Granted by: Paula O. Blunt, General Deputy Assistant Secretary for Public and Indian Housing.

Date Granted: May 24, 2005.

Reason Waived: The waiver was granted because this cost-saving measure would enable the SHA to both manage its Housing Choice Voucher program within allocated budget authority and avoid the termination of HAP contracts due to insufficient funding.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Englewood Housing Authority (EHA), Englewood, CO. The EHA requested a waiver of payment standard (PS) requirements to permit it to implement reduced PSs earlier than required to avoid termination of housing assistance payments (HAP) contracts during calendar year 2005 due to insufficient funding.

Nature of Requirement: Section 982.505(c)(3) states that if the amount on the PS schedule is decreased during the term of the HAP contract, the lower PS amount generally must be used to calculate the monthly HAP for the family beginning at the effective date of the family's second regular reexamination following the effective date of the decrease.

Granted by: Paula O. Blunt, General Deputy Assistant Secretary for Public and Indian Housing.

Date Granted: May 24, 2005.

Reason Waived: The waiver was granted because this cost-saving measure would enable the EHA to both manage its Housing Choice Voucher program within allocated budget authority and avoid the termination of HAP contracts due to insufficient funding.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Dowagiac Housing Commission (DHC), Dowagiac, MI. The DHC requested a waiver of payment standard (PS) requirements to permit it to implement reduced PSs earlier than required to avoid termination of housing assistance payments (HAP) contracts during calendar year 2005 due to insufficient funding.

Nature of Requirement: Section 982.505(c)(3) states that if the amount on the PS schedule is decreased during the term of the HAP contract, the lower PS amount generally must be used to calculate the monthly HAP for the family beginning at the effective date of the family's second regular reexamination following the effective date of the decrease.

Granted by: Paula O. Blunt, General Deputy Assistant Secretary for Public and Indian Housing.

Date Granted: May 24, 2005.

Reason Waived: The waiver was granted because this cost-saving measure would enable the DHC to both manage its Housing Choice Voucher program within allocated budget authority and avoid the termination of HAP contracts due to insufficient funding.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Housing Authority of the City of Loveland (HACL), Loveland, CO. The HACL requested a waiver of payment standard (PS) requirements to permit it to implement reduced PSs earlier than required to avoid termination of HAP contracts during calendar year 2005 due to insufficient funding.

Nature of Requirement: Section 982.505(c)(3) states that if the amount on the PS schedule is decreased during the term of the HAP contract, the lower PS amount generally must be used to calculate the monthly HAP for the family beginning at the effective date of the family's second regular reexamination following the effective date of the decrease.

Granted by: Paula O. Blunt, General Deputy Assistant Secretary for Public and Indian Housing.

Date Granted: May 24, 2005.

Reason Waived: The waiver was granted because this cost-saving measure would enable the HACL to both manage its Housing Choice Voucher program within allocated budget authority and avoid the termination of HAP contracts due to insufficient funding.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: City of Fairfield Housing Services (CFHS), Fairfield, CA. The CFHS requested a waiver of payment standard (PS) requirements to permit it to implement reduced PSs earlier than required to avoid termination of HAP contracts during calendar year 2005 due to insufficient funding.

Nature of Requirement: Section 982.505(c)(3) states that if the amount on the PS schedule is decreased during the term of the HAP contract, the lower PS amount generally must be used to calculate the monthly HAP for the family beginning at the effective date of the family's second regular reexamination following the effective date of the decrease.

Granted by: Paula O. Blunt, General Deputy, Assistant Secretary for Public and Indian Housing.

Date Granted: May 24, 2005.

Reason Waived: The waiver was granted because this cost-saving measure would enable the CFHS to both manage its Housing Choice Voucher program within allocated budget authority and avoid the termination of HAP contracts due to insufficient funding.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Housing Authority of Thurston County (HATC), Olympia, WA. The HATC requested a waiver of payment standard (PS) requirements to permit it to implement reduced payment standards earlier than required to avoid termination of housing assistance payments (HAP) contracts during calendar year 2005 due to insufficient funding.

Nature of Requirement: Section 982.505(c)(3) states that if the amount on the PS schedule is decreased during the term of the HAP contract, the lower PS amount generally must be used to calculate the monthly HAP for the family beginning at the effective date of the family's second regular reexamination following the effective date of the decrease.

Granted by: Paula O. Blunt, General Deputy Assistant Secretary for Public and Indian Housing.

Date Granted: May 9, 2005.

Reason Waived: The waiver was granted because this cost-saving measure would enable the HATC to both manage its Housing Choice Voucher program within allocated budget authority and avoid the termination of HAP contracts due to insufficient funding.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Cohoes Housing Authority (CHA), Cohoes, NY. The CHA requested a waiver of payment standard (PS) requirements to permit it to implement reduced PSs earlier than required to avoid termination of housing assistance payments (HAP) contracts during calendar year 2005 due to insufficient funding.

Nature of Requirement: Section 982.505(c)(3) states that if the amount on the PS schedule is decreased during the term of the HAP contract, the lower PS amount generally must be used to calculate the monthly HAP for the family beginning at the effective date of the family's second regular reexamination following the effective date of the decrease.

Granted by: Paula O. Blunt, General Deputy Assistant Secretary for Public and Indian Housing.

Date Granted: May 9, 2005.

Reason Waived: The waiver was granted because this cost-saving measure would enable the CHA to both manage its Housing Choice Voucher program within allocated budget authority and avoid the termination of HAP contracts due to insufficient funding.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Housing Authority of the County of Merced (HACM), Merced, CA. The HACM requested a waiver of payment standard (PS) requirements to permit it to implement reduced PSs earlier than required to avoid termination of HAP contracts during calendar year 2005 due to insufficient funding.

Nature of Requirement: Section 982.505(c)(3) states that if the amount on the PS schedule is decreased during the term of the HAP contract, the lower PS amount generally must be used to calculate the monthly HAP for the family beginning at the effective date of the family's second regular reexamination following the effective date of the decrease.

Granted by: Paula O. Blunt, General Deputy Assistant Secretary for Public and Indian Housing.

Date Granted: May 6, 2005.

Reason Waived: The waiver was granted because this cost-saving measure would enable the HACM to both manage its Housing Choice Voucher program within allocated budget authority and avoid the termination of HAP contracts due to insufficient funding.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Wilkes-Barre Housing Authority (WBHA), Wilkes-Barre, PA. The WBHA requested a waiver of payment standard (PS) requirements to permit it to implement reduced payment standards earlier than required to avoid termination of housing assistance payments (HAP) contracts during calendar year 2005 due to insufficient funding.

Nature of Requirement: Section 982.505(c)(3) states that if the amount on the PS schedule is decreased during the term of the HAP contract, the lower PS amount generally must be used to calculate the monthly HAP for the family beginning at the effective date of the family's second regular reexamination following the effective date of the decrease.

Granted by: Paula O. Blunt, General Deputy Assistant Secretary for Public and Indian Housing.

Date Granted: May 9, 2005.

Reason Waived: The waiver was granted because this cost-saving measure would enable the WBHA to both manage its Housing Choice Voucher program within allocated budget authority and avoid the termination of HAP contracts due to insufficient funding.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Danville Community Development Agency (DCDA), Danville, KY. The DCDA requested a waiver of payment standard (PS) requirements to permit it to implement reduced payment standards earlier than required to avoid termination of housing assistance payments (HAP) contracts during calendar year 2005 due to insufficient funding.

Nature of Requirement: Section 982.505(c)(3) states that if the amount on the PS schedule is decreased during the term of the HAP contract, the lower PS amount generally must be used to calculate the monthly HAP for the family beginning at the effective date of the family's second regular reexamination following the effective date of the decrease.

Granted by: Paula O. Blunt, General Deputy Assistant Secretary for Public and Indian Housing.

Date Granted: May 9, 2005.

Reason Waived: The waiver was granted because this cost-saving measure would enable the DCDA to both manage its Housing Choice Voucher program within allocated budget authority and avoid the termination of HAP contracts due to insufficient funding.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Asbury Park Housing Authority (APHA), Asbury Park, NJ. The APHA requested a waiver of payment standard (PS) requirements to permit it to implement reduced PSs earlier than required to avoid termination of HAP contracts during calendar year 2005 due to insufficient funding.

Nature of Requirement: Section 982.505(c)(3) states that if the amount on the PS schedule is decreased during the term of the HAP contract, the lower PS amount generally must be used to calculate the monthly HAP for the family beginning at the effective date of the family's second regular reexamination following the effective date of the decrease.

Granted by: Paula O. Blunt, General Deputy Assistant Secretary for Public and Indian Housing.

Date Granted: May 9, 2005.

Reason Waived: The waiver was granted because this cost-saving measure would enable the APHA to both manage its Housing Choice Voucher program within allocated budget authority and avoid the termination of HAP contracts due to insufficient funding.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(d).

Project/Activity: Greenfield Housing Authority (GHA), Greenfield, MS. The GHA is requesting approval of a special exception payment standard that exceeds 120 percent of the fair market rent as a reasonable accommodation for a housing choice voucher holder's disability.

Nature of Requirement: Section 982.505(d) allows a PHA to approve a higher payment standard within the basic range for a family that includes a person with a disability as a reasonable accommodation in accordance with 24 CFR part 8.

Granted by: Paula O. Blunt, General Deputy Assistant Secretary for Public and Indian Housing.

Date Granted: May 24, 2005.

Reason Waived: Approval of the waiver was granted to allow a disabled housing choice voucher holder with multiple chemical sensitivities to rent a two-bedroom unit so she can isolate problematic chemical and other items until they can be safely integrated into her living space.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(d).

Project/Activity: Community Development Commission of Mendocino County (CDCMC), Ukiah, CA. The CDCMC is requesting approval of a special exception payment standard that exceeds 120 percent of the fair market rent as a reasonable accommodation for a housing choice voucher holder's disability.

Nature of Requirement: Section 982.505(d) allows a PHA to approve a higher payment standard within the basic range for a family that includes a person with a disability as a reasonable accommodation in accordance with 24 CFR part 8.

Granted by: Paula O. Blunt, General Deputy Assistant Secretary for Public and Indian Housing.

Date Granted: May 9, 2005.

Reason Waived: Approval of the waiver was granted to allow a disabled housing choice voucher holder to remain in his current unit because it is in close proximity of the services he utilize and so that he can live independently.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 983.151(c).

Project/Activity: San Francisco Housing Authority (SFHA), San Francisco, CA. The SFHA requested a waiver of the Regulation so that it could renew project-based certificate (PBC) housing assistance payments (HAP) contracts for Bernal Gateway, Golden Gate Apartments and the Arc Apartments beyond the expiration date of the Annual Contributions Contract since funding increments are only renewed for terms less than a year.

Nature of Requirement: The regulation requires that, with HUD field office approval, and at the sole option of the public housing agency (PHA), PHAs may renew expiring HAP contracts for such period or periods as the HUD field office determines appropriate to achieve long-term affordability of the assisted housing, provided that the term does not extend beyond the Annual Contributions Contract expiration date for the funding source. PHAs must identify the funding source for renewals; different funding sources may be used for the initial term and renewal terms of the HAP contract.

Granted by: Paula O. Blunt, General Deputy Assistant Secretary for Public and Indian Housing.

Date Granted: May 6, 2005.

Reason Waived: Approval to waive the regulation was granted in order to allow the SFHA to provide rental assistance at these developments up to the maximum 15 years allowed under the PBC HAP contracts without having to request HUD field office approval to do so every year or less.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Georgia Department of Community Affairs (GDCA), Atlanta, GA. The GDCA requested a waiver of payment standard (PS) requirements to permit it to implement reduced payment standards earlier than required to avoid termination of housing assistance payments (HAP) contracts during calendar year 2005 due to insufficient funding.

Nature of Requirement: Section 982.505(c)(3) states that if the amount on the PS schedule is decreased during the term of the HAP contract, the lower PS amount generally must be used to calculate the monthly HAP for the family beginning at the effective date of the family's second regular reexamination following the effective date of the decrease.

Granted by: Paula O. Blunt, General Deputy, Assistant Secretary for Public and Indian Housing.

Date Granted: April 27, 2005.

Reason Waived: The waiver was granted because this cost-saving measure would enable the GDCA to both manage its Housing Choice Voucher program within allocated budget authority and avoid the termination of HAP contracts due to insufficient funding.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Housing Authority of the County of Ford (HACF), Gibson City, IL. The HACF requested a waiver of payment standard (PS) requirements to permit it to implement reduced payment standards earlier than required to avoid termination of housing assistance payments (HAP) contracts during calendar year 2005 due to insufficient funding.

Nature of Requirement: Section 982.505(c)(3) requires that if the amount on the PS schedule is decreased during the term of the HAP contract, the lower PS amount generally must be used to calculate the monthly HAP for the family beginning at the effective date of the family's second regular reexamination following the effective date of the decrease.

Granted by: Paula O. Blunt, General Deputy Assistant Secretary for Public and Indian Housing.

Date Granted: April 25, 2005.

Reason Waived: The waiver was granted because this cost-saving measure would enable the HACF to both manage its Housing Choice Voucher program within allocated budget authority and avoid the termination of HAP contracts due to insufficient funding.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Sanford Housing Authority (SHA), Sanford, NC. The SHA requested a waiver of payment standard (PS) requirements to permit it to implement reduced payment standards earlier than required to avoid termination of housing assistance payments (HAP) contracts during calendar year 2005 due to insufficient funding.

Nature of Requirement: Section 982.505(c)(3) states that if the amount on the PS schedule is decreased during the term of the HAP contract, the lower PS amount generally must be used to calculate the monthly HAP for the family beginning at the effective date of the family's second regular reexamination following the effective date of the decrease.

Granted by: Paula O. Blunt, General Deputy Assistant Secretary for Public and Indian Housing.

Date Granted: April 25, 2005.

Reason Waived: The waiver was granted because this cost-saving measure would enable the SHA to both manage its Housing Choice Voucher program within allocated budget authority and avoid the termination of HAP contracts due to insufficient funding.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Littleton Housing Authority (LHA), Colorado. The LHA requested a waiver of payment standard (PS) requirements to permit it to implement reduced payment standards earlier than required to avoid termination of housing assistance payments (HAP) contracts during calendar year 2005 due to insufficient funding.

Nature of Requirement: Section 982.505(c)(3) states that if the amount on the PS schedule is decreased during the term of the HAP contract, the lower PS amount generally must be used to calculate the monthly HAP for the family beginning at the effective date of the family's second regular reexamination following the effective date of the decrease.

Granted by: Paula O. Blunt, General Deputy Assistant Secretary for Public and Indian Housing.

Date Granted: April 25, 2005.

Reason Waived: The waiver was granted because this cost-saving measure would enable the LHA to both manage its Housing Choice Voucher program within allocated budget authority and avoid the termination of HAP contracts due to insufficient funding.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: City of Pittsburg Housing Authority (CPHA), Pittsburg, CA. The PHA requested a waiver of payment standard (PS) requirements to permit it to implement reduced payment standards earlier than required to avoid termination of HAP contracts during calendar year 2005 due to insufficient funding.

Nature of Requirement: Section 982.505(c)(3) states that if the amount on the PS schedule is decreased during the term of the HAP contract, the lower PS amount generally must be used to calculate the monthly HAP for the family beginning at the effective date of the family's second regular reexamination following the effective date of the decrease.

Granted by: Paula O. Blunt, General Deputy Assistant Secretary for Public and Indian Housing.

Date Granted: April 25, 2005.

Reason Waived: The waiver was granted because this cost-saving measure would enable the PHA to both manage its Housing Choice Voucher program within allocated budget authority and avoid the termination of HAP contracts due to insufficient funding.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Knoxville Community Development Corporation (KCDC), Knoxville, TN. The KCDC requested a waiver of payment standard (PS) requirements to permit it to implement reduced payment standards earlier than required to avoid termination of housing assistance payments (HAP) contracts during calendar year 2005 due to insufficient funding.

Nature of Requirement: Section 982.505(c)(3) states that if the amount on the PS schedule is decreased during the term of the HAP contract, the lower PS amount generally must be used to calculate the monthly HAP for the family beginning at the effective date of the family's second regular reexamination following the effective date of the decrease.

Granted by: Paula O. Blunt, General Deputy Assistant Secretary for Public and Indian Housing.

Date Granted: April 25, 2005.

Reason Waived: The waiver was granted because this cost-saving measure would enable the KCDC to both manage its Housing Choice Voucher program within allocated budget authority and avoid the termination of HAP contracts due to insufficient funding.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Fairfield Housing Authority (FHA), Fairfield, CT. The FHA requested a waiver of payment standard (PS) requirements to permit it to implement reduced payment standards earlier than required to avoid termination of HAP contracts during calendar year 2005 due to insufficient funding.

Nature of Requirement: Section 982.505(c)(3) states that if the amount on the PS schedule is decreased during the term of the HAP contract, the lower PS amount generally must be used to calculate the monthly HAP for the family beginning at the effective date of the family's second regular reexamination following the effective date of the decrease.

Granted by: Paula O. Blunt, General Deputy Assistant Secretary for Public and Indian Housing.

Date Granted: April 25, 2005.

Reason Waived: The waiver was granted because this cost-saving measure would enable the FHA to both manage its Housing Choice Voucher program within allocated budget authority and avoid the termination of HAP contracts due to insufficient funding.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Sullivan County Housing Authority (SCHA), Laporte, PA. The SCHA requested a waiver of payment standard (PS) requirements to permit it to implement reduced payment standards earlier than required to avoid termination of HAP contracts during calendar year 2005 due to insufficient funding.

Nature of Requirement: Section 982.505(c)(3) requires that if the amount on the PS schedule is decreased during the term of the HAP contract, the lower PS amount generally must be used to calculate the monthly HAP for the family beginning at the effective date of the family's second regular reexamination following the effective date of the decrease.

Granted by: Paula O. Blunt, General Deputy Assistant Secretary for Public and Indian Housing.

Date Granted: April 11, 2005.

Reason Waived: The waiver was granted because this cost-saving measure would enable the SCHA to both manage its Housing Choice Voucher program within allocated budget authority and avoid the termination of HAP contracts due to insufficient funding.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Boston Housing Authority (BHA), Boston, MA. The BHA requested a waiver of payment standard (PS) requirements to permit it to implement reduced payment standards earlier than required to avoid termination of HAP contracts during calendar year 2005 due to insufficient funding.

Nature of Requirement: Section 982.505(c)(3) requires that if the amount on the PS schedule is decreased during the term of the HAP contract, the lower PS amount generally must be used to calculate the monthly HAP for the family beginning at the effective date of the family's second regular reexamination following the effective date of the decrease.

Granted by: Paula O. Blunt, General Deputy Assistant Secretary for Public and Indian Housing.

Date Granted: April 4, 2005.

Reason Waived: The waiver was granted because this cost-saving measure would enable the BHA to both manage its Housing Choice Voucher program within allocated budget authority and avoid the termination of HAP contracts due to insufficient funding.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 983.51(a), (b) and (c), 983.55 (a) and (c), 983.56(c), 983.7(f)(2)(ii) and Section II of subpart E of the January 16, 2001, Federal Register Notice, Revisions to PHA Project-Based Assistance (PBA) Program; Initial Guidance.

Project/Activity: Housing Authority of the City of Milwaukee (HACM), Milwaukee, WI. The HACM requested waiver of the competitive selection requirements and an exception to the deconcentration requirements to permit it to attach PBA to 22 units at the Highland Park Mid Rise HOPE VI Development, which is in census tract with a poverty rate of 21.4 percent.

Nature of Requirement: Section 983.51(a), (b) and (c) require competitive selection of owner proposals in accordance with a housing authority's HUD-approved advertisement and unit selection policy. Section 983.55(a) and (c) and § 983.56(c) for new construction projects and § 983.7(f)(2)(ii) for projects owned by a PHA require compliance with PHA selection criteria. Section II of subpart E of the Initial Guidance requires that in order to meet the Department's goal of deconcentration and expanding housing and economic opportunities, the projects must be in census tracts with poverty rates of less than 20 percent.

Granted by: Paula O. Blunt, General Deputy Assistant Secretary for Public and Indian Housing.

Date Granted: April 15, 2005.

Reason Waived: Approval to waive competitive selection and related requirements was granted for this project since it underwent a comparable competitive process for Low Income Housing Tax Credits in 2003 through the Wisconsin Housing and Economic Development Authority and was selected without a prior commitment of PBA. An exception to the deconcentration requirements was granted since the mid rise development of 114 units will replace 220 units of existing public housing in the two high-rise towers for the elderly and disabled, which represents a significant reduction in assisted units at the site.

Contact: Dr. Alfred Jurison, Director, Housing Voucher Management and Operations Division, Office of Public Housing and Voucher Programs, Office of Public and Indian Housing, Department of Housing and Urban Development, 451 Seventh Street, SW., Room 4210, Washington, DC 20410-5000, telephone (202) 708-0477.

• Regulation: Section II of subpart E of the January 16, 2001, Federal Register Notice, Revisions to PHA Project-Based Assistance (PBA) Program; Initial Guidance.

Project/Activity: Missoula Housing Authority (MHA), Missoula, MT. The MHA requested an exception to the deconcentration requirements to permit it to attach PBA to: 6 units at the YWCA project in census tract 8 with a poverty rate of 24.2 percent; 3 units at Word's Gold Dust project in census tract 2.01 with a poverty rate of 28.3 percent; and 16 units at Maclay Commons in census tract 10 with a poverty rate of 23.9 percent.

Nature of Requirement: Section II of subpart E of the Initial Guidance requires that in order to meet the Department's goal of deconcentration and expanding housing and economic opportunities, the projects must be in census tracts with poverty rates of less than 20 percent.

Granted by: Paula O. Blunt, General Deputy Assistant Secretary for Public and Indian Housing.

Date Granted: April 15, 2005.

Reason Waived: An exception to the deconcentration requirements was granted since the adjusted poverty rates in the applicable census tracts would all be below 20 percent when the student population related to the University of Montana is discounted. These households have minimum or zero income and occupy nearly 35 percent of Missoula's rental units.

Contact: Dr. Alfred Jurison, Director, Housing Voucher Management and Operations Division, Office of Public Housing and Voucher Programs, Office of Public and Indian Housing, Department of Housing and Urban Development, 451 Seventh Street, SW., Room 4210, Washington, DC 20410-5000, telephone (202) 708-0477.

• Regulation: Section II of subpart E of the January 16, 2001, Federal Register Notice, Revisions to PHA Project-Based Assistance (PBA) Program; Initial Guidance.

Project/Activity: Michigan State Housing Development Authority (MSHDA), Lansing, MI. The MSHDA requested a waiver of deconcentration requirements to permit it to attach PBA to 30 units at Herkimer Apartments in Grand Rapids, which is located in census tract 21 that has a poverty rate of 20 percent.

Nature of Requirement: Section II of subpart E of the Initial Guidance requires that in order to meet the Department's goal of deconcentration and expanding housing and economic opportunities, the projects must be in census tracts with poverty rates of less than 20 percent.

Granted by: Paula O. Blunt, General Deputy Assistant Secretary for Public and Indian Housing.

Date Granted: April 4, 2005.

Reason Waived: An exception to the deconcentration requirements was granted since the area in which Herkimer Apartments is located was designated a Neighborhood Preservation Program target area in 1999 by MSHDA and in 2004 became part of a larger area designated as a Michigan “Cool Cities” neighborhood called “Avenue of the Arts.” Within this neighborhood is the Martineau Project, a $10.5 million housing and commercial arts project designed to reinforce the current economic development activity by providing 14,000 square feet of commercial space leased to the Calvin College Arts Department and a café and catering business that provides economic opportunities. In addition, market rate units (Front Row Condominiums and City View Condominiums) in the immediate area are selling for up to $329,000.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: Section II of subpart E of the January 16, 2001, Federal Register Notice, Revisions to PHA Project-Based Assistance (PBA) Program; Initial Guidance; Section II of subpart F of the January 16, 2001, Federal Register Notice, Revisions to PHA Project-Based Assistance (PBA) Program; Initial Guidance; and 24 CFR 983.51(a)(b) and (c).

Project/Activity: Chicago Housing Authority (CHA), Chicago, IL. The CHA requested an exception to the 25 percent cap on the umber of units in a building that can have PBA attached to permit it to attach PBA to 50 units at the St. Leo's Residence.

The CHA also requested an exception to the Initial Guidance for the St. Leo's Residence that is located in a census tract with a poverty rate greater than 20 percent.

The CHA also requested a waiver of competitive selection of owner proposals under the project-based program for the St. Leo's Residence.

Nature of Requirement: Section II of subpart F requires that no more than 25 percent of the dwelling units in any building may be assisted under a HAP contract for PBA except for dwelling units that are specifically made available for elderly families, disabled families and families receiving supportive services. Until regulations are promulgated regarding the category of families receiving supportive services, this aspect of the law is implemented on a case-by-case basis.

Section II of subpart E of the Initial Guidance requires that in order to meet the Department's goal of deconcentration and expanding housing and economic opportunities, the projects must be in census tracts with poverty rates of less than 20 percent.

Regulations at 24 CFR 983.51 require competitive selection of owner proposals in accordance with a housing authority's HUD-approved advertisement and unit selection policy.

Granted by: Michael Liu, Assistant Secretary for Public and Indian Housing.

Date Granted: April 25, 2005.

Reason Waived: An exception to the unit cap was granted based on the nature of the services families would receive. The services include job training and assisting residents in the pursuit of employment. The Department of Veteran's Affairs will operate a nearby community-based outpatient clinic which will contain a floor that will house a computer lab, and job training classrooms.

The project is located in a HUD-designated Enterprise Zone. The purpose of establishing enterprise zones was to open new businesses, and create jobs, housing, and new educational and healthcare opportunities for thousands of Americans. As these goals are consistent with the goal of deconcentrating poverty and expanding housing and economic opportunities, approval of an exception to the deconcentration requirement was granted.

Approval to waive competitive selection requirements was granted for the St. Leo's Residence since the project had undergone a previous federal competition. The project was awarded federal Low Income Housing Tax Credits.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: Section II of subpart F of the January 16, 2001, Federal Register Notice, Revisions to PHA Project-Based Assistance (PBA) Program; Initial Guidance.

Project/Activity: Malden Housing Authority (MHA) Malden, MA. The MHA requested an exception to the 25 percent cap on the umber of units in a building that can have PBA attached to permit it to attach PBA to 19 units at the Cross Street Housing Project.

Nature of Requirement: Section II of subpart F requires that no more than 25 percent of the dwelling units in any building may be assisted under a HAP contract for PBA except for dwelling units that are specifically made available for elderly families, disabled families and families receiving supportive services. Until regulations are promulgated regarding the category of families receiving supportive services, this aspect of the law is implemented on a case-by-case basis.

Granted by: Paula O. Blunt, General Deputy Assistant Secretary for Public and Indian Housing.

Date Granted: April 14, 2005.

Reason Waived: An exception to the unit cap was granted based on the nature of the services families would receive. The services will focus on economic self-sufficiency. Specifically, the owner plans to offer job training, pre-employment counseling, linkage with GED and ESL classes, as well as linkage to day care for children to support job training and job.

Contact: Alfred C. Jurison, Director, Housing Voucher Management and Operations Division, Office of Public Housing and Voucher Programs, Office of Public and Indian Housing, Department of Housing and Urban Development, 451 Seventh Street, SW., Room 4210, Washington, DC 20410-5000, telephone (202) 708-0477.

[FR Doc. 05-21985 Filed 11-4-05; 8:45 am]

BILLING CODE 4210-67-P